DEPARTMENT OF HOUSING AND URBAN DEVELOPMENT

[Docket No. FR-5280-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7262, Washington, DC 20410; telephone (202) 708-1234; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2008 for suitability for use to assist the homeless. The properties were reviewed using information provided to HUD by Federal landholding agencies regarding unutilized and underutilized buildings and real property controlled by such agencies or by GSA regarding its inventory of excess or surplus Federal property. In accordance with 24 CFR part 581.3(b) landholding agencies are required to notify HUD by December 31, 2008, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S.Army: Veronica Rines, Headquarters, Department of the Army, Office of the Assistant Chief of Staff for Installation Management, Attn: DAIM-MD, Room 8536, 2511 Jefferson Davis Hwy, Arlington, VA 22202; (703) 601-2545; Corps of Engineers: Kim Shelton, Office of Counsel, CECC-R, 441 G Street, Washington, DC 20314-1000; (202) 761-7696; U.S. Navy: Mary Arndt, Dept. of Navy, Real Estate Policy Division, Naval Facilities Engineering Command, Washington Navy Yard, 1322 Patterson Ave., SE., Suite 1000, Washington, DC 20374-5065; (202) 685-9305; U.S. Air Force: Robert Moore, Air Force Real Property Agency, 143 Billy Mitchell Blvd., Suite 1, San Antonio, TX 78226; (210) 925-3047; GSA: John E.B. Smith, Office of Property Disposal, GSA, 18th and F Streets NW., Washington, DC 20405; (202) 501-0084; Dept. of Veterans Affairs: George Szwarcman, Real Property Service, Dept. of Veterans Affairs, room 555, 811 Vermont Ave. NW., Washington, DC 20420; (202) 565-5398; Dept. of Interior: Michael Wright, Acquisition & Property Management, Dept. of Interior, 1849 C St. NW., MS 2603, Washington, DC 20240; (202) 208-5399; (These are not toll-free numbers).

Dated: February 5, 2009.
Mark R. Johnston,
Deputy Assistant Secretary for Special Needs.

TITLE V PROPERTIES REPORTED IN YEAR 2008 WHICH ARE SUITABLE AND AVAILABLE

Air Force

California

Building

Facility 1

Property Number: 18200830012

OTHB Radar Site

Tulelake CA 91634

Status: Unutilized

Comments: 7920 sq. ft., most recent use—communications

Facility 2

Property Number: 18200830014

OTHB Radar Site

Tulelake CA 91634

Status: Unutilized

Comments: 900 sq. ft., most recent use—veh maint shop

Facilities 3, 4

Property Number: 18200830015

OTHB Radar Site

Tulelake CA 91634

Status: Unutilized

Comments: 4160 sq. ft. each, most recent use—communications

Facility 1

Property Number: 18200830016

OTHB Radar Site

Christmas Valley CA 97641

Status: Unutilized

Comments: 16566 sq. ft., most recent use—communications

Facility 2

Property Number: 18200830017

OTHB Radar Site

Christmas Valley CA 97641

Status: Unutilized

Comments: 900 sq. ft., most recent use—veh maint shop

Facility 4

Property Number: 18200830018

OTHB Radar Site

Christmas Valley CA 97641

Status: Unutilized

Comments: 14,190 sq. ft., most recent use—communications

Facility 6

Property Number: 18200830019

OTHB Radar Site

Christmas Valley CA 97641

Status: Unutilized

Comments: 14,190 sq. ft., most recent use—transmitter bldg.

Land

Parcels L1 & L2

Property Number: 18200820034

George AFB

Victorville CA 92394

Status: Excess

Comments: 157 acres/desert, pump-and-treat system, groundwater restrictions, AF access rights, access restrictions, environmental concerns

Hawaii

Building

Bldg. 849

Property Number: 18200330008

Bellows AFS

Bellows AFS HI

Status: Unutilized

Comments: 462 sq. ft., concrete storage facility, off-site use only

Maine

Building

Bldgs 1, 2, 3, 4

Property Number: 18200840009

OTH-B Radar Site

Columbia Falls ME

Status: Unutilized

Comments: Various sq. ft., most recent use—storage/office

Missouri

Land

Communications Site

Property Number: 18200710001

County Road 424

Dexter Co: Stoddard MO

Status: Unutilized

Comments: 10.63 acres

New York

Building

Bldg. 240

Property Number: 18200340023

Rome Lab

Rome Co: Oneida NY 13441

Status: Unutilized

Comments: 39108 sq. ft., presence of asbestos, most recent use—Electronic Research Lab

Bldg. 247

Property Number: 18200340024

Rome Lab

Rome Co: Oneida NY 13441

Status: Unutilized

Comments: 13199 sq. ft., presence of asbestos, most recent use—Electronic Research Lab

Bldg. 248

Property Number: 18200340025

Rome Lab

Rome Co: Oneida NY 13441

Status: Unutilized

Comments: 4000 sq. ft., presence of asbestos, most recent use—Electronic Research Lab

Bldg. 302

Property Number: 18200340026

Rome Lab

Rome Co: Oneida NY 13441

Status: Unutilized

Comments: 10288 sq. ft., presence of asbestos, most recent use—communications facility

North Carolina

Land

0.14 acres

Property Number: 18200810001

Pope AFB

Pope AFB NC

Status: Excess

Comments: Most recent use—middle marker, easement for entry

Texas

Land

0.13 acres

Property Number: 18200810002

DYAB, Dyess AFB

Tye Co: Taylor TX 79563

Status: Unutilized

Comments: Most recent use—middle marker, access limitation

Army

Alaska

Building

Bldg. 00001

Property Number: 21200340075

Kiana Natl Guard Armory

Kiana AK 99749

Status: Excess

Comments: 1200 sq. ft., butler bldg., needs repair, off-site use only

Bldg. 00001

Property Number: 21200710051

Holy Cross Armory

High Cross AK 99602

Status: Excess

Comments: 1200 sq. ft. armory, off-site use only

Bldg. 105

Property Number: 21200820144

Ft. Richardson

Ft. Richardson AK 99505

Status: Excess

Comments: 4992 sq. ft., most recent use—housing, off-site use only

Bldgs. 112, 113, 114, 115

Property Number: 21200820145

Ft. Richardson

Ft. Richardson AK 99505

Status: Excess

Comments: 5184 sq. ft., most recent use—housing, off-site use only

Bldgs. 120, 129, 139, 148

Property Number: 21200820146

Ft. Richardson

Ft. Richardson AK 99505

Status: Excess

Comments: 4766 sq. ft., most recent use—housing, off-site use only

Bldg. 136

Property Number: 21200820147

Ft. Richardson

Ft. Richardson AK 99505

Status: Excess

Comments: 2383 sq. ft., most recent use—housing, off-site use only

Bldgs. 366, 367, 371, 373

Property Number: 21200820148

Ft. Richardson

Ft. Richardson AK 99505

Status: Excess

Comments: 13,743 sq. ft., most recent use—housing, off-site use only

Bldgs. 369, 372

Property Number: 21200820149

Ft. Richardson

Ft. Richardson AK 99505

Status: Excess

Comments: 12,642 sq. ft., most recent use—housing, off-site use only

Bldgs. 392, 394

Property Number: 21200820150

Ft. Richardson

Ft. Richardson AK 99505

Status: Excess

Comments: 18,496 sq. ft., most recent use—housing, off-site use only

12 Bldgs.

Property Number: 21200820151

Ft. Richardson

Ft. Richardson AK 99505

Location: 413, 414, 415, 416, 417, 418, 424, 425, 427, 428, 429, 431

Status: Excess

Comments: 13,056 sq. ft., most recent use—housing, off-site use only

Arizona

Building

Bldg. S-306

Property Number: 21199420346

Yuma Proving Ground

Yuma Co: Yuma/La Paz AZ 85365-9104

Status: Unutilized

Comments: 4103 sq. ft., 2-story, needs major rehab, off-site use only

Bldg. 503, Yuma Proving Ground

Property Number: 21199520073

Yuma Co: Yuma AZ 85365-9104

Status: Underutilized

Comments: 3789 sq. ft., 2-story, major structural changes required to meet floor loading code requirements, presence of asbestos, off-site use only

Bldg. 43002

Property Number: 21200440066

Fort Huachuca

Cochise AZ 85613-7010

Status: Excess

Comments: 23,152 sq. ft., presence of asbestos/lead paint, most recent use—dining, off-site use only

California

Building

Bldgs. 18026, 18028

Property Number: 21200130081

Camp Roberts

Monterey CA 93451-5000

Status: Excess

Comments: 2024 sq. ft., concrete, poor condition, off-site use only

Colorado

Building

Bldgs. 25, 26, 27

Property Number: 21200420178

Pueblo Chemical Depot

Pueblo CO 81006

Status: Unutilized

Comments: 1311 sq. ft., presence of asbestos/lead paint, most recent use—housing, off-site use only

Bldg. 00127

Property Number: 21200420179

Pueblo Chemical Depot

Pueblo CO 81006

Status: Unutilized

Comments: 8067 sq. ft., presence of asbestos, most recent use—barracks, off-site use only

Bldg. 01516

Property Number: 21200640116

Fort Carson

El Paso CO 80913

Status: Unutilized

Comments: 723 sq. ft., needs repair, most recent use—storage, off-site use only

Georgia

Building

Bldg. 322

Property Number: 21199720156

Fort Benning

Ft. Benning Co: Muscogee GA 31905

Status: Unutilized

Comments: 9600 sq. ft., needs rehab, most recent use—admin., off-site use only

Bldg. 2593

Property Number: 21199720167

Fort Benning

Ft. Benning Co: Muscogee GA 31905

Status: Unutilized

Comments: 13644 sq. ft., needs rehab, most recent use—parachute shop, off-site use only

Bldg. 2595

Property Number: 21199720168

Fort Benning

Ft. Benning Co: Muscogee GA 31905

Status: Unutilized

Comments: 3356 sq. ft., needs rehab, most recent use—chapel, off-site use only

Bldg. 4232

Property Number: 21199830291

Fort Benning

null Co: Muscogee GA 31905

Status: Unutilized

Comments: 3720 sq. ft., needs rehab, most recent use—maint. bay, off-site use only

Bldgs. 5974-5978

Property Number: 21199930135

Fort Benning

Ft. Benning Co: Muscogee GA 31905

Status: Unutilized

Comments: 400 sq. ft., most recent use—storage, off-site use only

Bldg. 5993

Property Number: 21199930136

Fort Benning

Ft. Benning Co: Muscogee GA 31905

Status: Unutilized

Comments: 960 sq. ft., most recent use—storage, off-site use only

Bldg. 5994

Property Number: 21199930137

Fort Benning

Ft. Benning Co: Muscogee GA 31905

Status: Unutilized

Comments: 2016 sq. ft., most recent use—storage, off-site use only

Bldg. T-1003

Property Number: 21200030085

Fort Stewart

Hinesville Co: Liberty GA 31514

Status: Excess

Comments: 9267 sq. ft., poor condition, most recent use—admin., off-site use only

Bldg. T0130

Property Number: 21200230041

Fort Stewart

Hinesville Co: Liberty GA 31314-5136

Status: Excess

Comments: 10,813 sq. ft., off-site use only

Bldg. T0157

Property Number: 21200230042

Fort Stewart

Hinesville Co: Liberty GA 31314-5136

Status: Excess

Comments: 1440 sq. ft., off-site use only

Bldgs. T291, T292

Property Number: 21200230044

Fort Stewart

Hinesville Co: Liberty GA 31314-5136

Status: Excess

Comments: 5220 sq. ft. each, off-site use only

Bldg. T0295

Property Number: 21200230045

Fort Stewart

Hinesville Co: Liberty GA 31314-5136

Status: Excess

Comments: 5220 sq. ft., off-site use only

Bldg. 4476

Property Number: 21200420034

Fort Benning

Ft. Benning Co: Chattachoochee GA 31905

Status: Excess

Comments: 3148 sq. ft., most recent use—veh. maint. shop, off-site use only

Bldg. 9029

Property Number: 21200420050

Fort Benning

Ft. Benning Co: Chattachoochee GA 31905

Status: Excess

Comments: 7356 sq. ft., most recent use—heat plant bldg., off-site use only

Bldg. T924

Property Number: 21200420194

Fort Stewart

Ft. Stewart Co: Liberty GA 31314

Status: Excess

Comments: 9360 sq. ft., most recent use—warehouse, off-site use only

Bldg. 00924

Property Number: 21200510065

Fort Stewart

Ft. Stewart Co: Liberty GA 31314

Status: Excess

Comments: 9360 sq. ft., most recent use—warehouse, off-site use only

Bldg. 08585

Property Number: 21200530078

Hunter Army Airfield

Savannah Co: Chatham GA 31409

Status: Excess

Comments: 165 sq. ft., most recent use—plant, off-site use only

Bldg. 01150

Property Number: 21200610037

Hunter Army Airfield

Savannah Co: Chatham GA 31409

Status: Excess

Comments: 137 sq. ft., most recent use—flam mat storage, off-site use only

Bldg. 01151

Property Number: 21200610038

Hunter Army Airfield

Savannah Co: Chatham GA 31409

Status: Excess

Comments: 78 sq. ft., most recent use—flam mat storage, off-site use only

Bldg. 01153

Property Number: 21200610039

Hunter Army Airfield

Savannah Co: Chatham GA 31409

Status: Excess

Comments: 211 sq. ft., most recent use—flam mat storage, off-site use only

Bldg. 01530

Property Number: 21200610048

Fort Stewart

Liberty GA 31314

Status: Excess

Comments: 80 sq. ft., most recent use—scale house, off-site use only

Bldg. 08032

Property Number: 21200610051

Fort Stewart

Liberty GA 31314

Status: Excess

Comments: 2592 sq. ft., needs rehab, most recent use—storage/stable, off-site use only

Bldg. 07783

Property Number: 21200640093

Fort Stewart

Hinesville GA 31314

Status: Excess

Comments: 8640 sq. ft., most recent use—maintenance hangar, off-site use only

Bldg. 08061

Property Number: 21200640094

Fort Stewart

Hinesville GA 31314

Status: Excess

Comments: 1296 sq. ft., most recent use—weather station, off-site use only

Bldg. 00100

Property Number: 21200740052

Hunter Army Airfield

Chatham GA 31409

Status: Excess

Comments: 10893 sq. ft., most recent use—battalion hdqts., off-site use only

Bldg. 00129

Property Number: 21200740053

Hunter Army Airfield

Chatham GA 31409

Status: Excess

Comments: 4815 sq. ft., presence of asbestos, most recent use—religious education facility, off-site use only

Bldg. 00145

Property Number: 21200740054

Hunter Army Airfield

Chatham GA 31409

Status: Excess

Comments: 11590 sq. ft., presence of asbestos, most recent use—post chapel, off-site use only

Bldg. 00811

Property Number: 21200740055

Hunter Army Airfield

Chatham GA 31409

Status: Excess

Comments: 42853 sq. ft., most recent use—co hq bldg, off-site use only

Bldg. 00812

Property Number: 21200740056

Hunter Army Airfield

Chatham GA 31409

Status: Excess

Comments: 1080 sq. ft., most recent use—power plant, off-site use only

Bldg. 00850

Property Number: 21200740057

Hunter Army Airfield

Chatham GA 31409

Status: Excess

Comments: 108,287 sq. ft., presence of asbestos, most recent use—aircraft hangar, off-site use only

Bldg. 00860

Property Number: 21200740058

Hunter Army Airfield

Chatham GA 31409

Status: Excess

Comments: 10679 sq. ft., presence of asbestos, most recent use—maint. hangar, off-site use only

Bldg. 01028

Property Number: 21200740059

Hunter Army Airfield

Chatham GA 31409

Status: Excess

Comments: 870 sq ft., most recent use—storage, off-site use only

Bldg. 00955

Property Number: 21200740060

Fort Stewart

Hinesville GA 31314

Status: Excess

Comments: 120 sq. ft., most recent use—storage, off-site use only

Bldg. 00957

Property Number: 21200740061

Fort Stewart

Hinesville GA 31314

Status: Excess

Comments: 6072 sq. ft., most recent use—recycling facility, off-site use only

Bldg. 00971

Property Number: 21200740062

Fort Stewart

Hinesville GA 31314

Status: Excess

Comments: 4000 sq. ft., most recent use—vehicle maint., off-site use only

Bldg. 01015

Property Number: 21200740063

Fort Stewart

Hinesville GA 31314

Status: Excess

Comments: 7496 sq. ft., most recent use—storage, off-site use only

Bldg. 01209

Property Number: 21200740064

Fort Stewart

Hinesville GA 31314

Status: Excess

Comments: 4786 sq. ft., presence of asbestos, most recent use—vehicle maint., off-site use only

Bldg. 07335

Property Number: 21200740065

Fort Stewart

Hinesville GA 31314

Status: Excess

Comments: 4400 sq. ft., most recent use—chapel, off-site use only

Bldg. 245

Property Number: 21200740178

Fort Benning

Ft. Benning GA 31905

Status: Unutilized

Comments: 1102 sq. ft., most recent use—fld ops, off-site use only

Bldg. 2748

Property Number: 21200740180

Fort Benning

Ft. Benning GA 31905

Status: Unutilized

Comments: 3990 sq. ft., most recent use—office, off-site use only

Bldg. 3866

Property Number: 21200740182

Fort Benning

Ft. Benning GA 31905

Status: Unutilized

Comments: 944 sq. ft., most recent use—office, off-site use only

Bldg. 8682

Property Number: 21200740183

Fort Benning

Ft. Benning GA 31905

Status: Unutilized

Comments: 780 sq. ft., most recent use—admin., off-site use only

Bldg. 10800

Property Number: 21200740184

Fort Benning

Ft. Benning GA 31905

Status: Unutilized

Comments: 16,628 sq. ft., off-site use only

Bldgs. 11302, 11303, 11304

Property Number: 21200740185

Fort Benning

Ft. Benning GA 31905

Status: Unutilized

Comments: Various sq. ft., most recent use—ACS center, off-site use only

Bldg. 0297

Property Number: 21200810045

Ft. Benning

Chattahoochie GA 31905

Status: Excess

Comments: 4839 sq. ft., most recent use—riding stable, off-site use only

Bldg. 3819

Property Number: 21200810046

Ft. Benning

Chattahoochie GA 31905

Status: Excess

Comments: 4241 sq. ft., most recent use—training, off-site use only

Bldg. 10802

Property Number: 21200810047

Ft. Benning

Chattahoochie GA 31905

Status: Excess

Comments: 3182 sq. ft., most recent use—storage, off-site use only

Bldg. 00926

Property Number: 21200840061

Hunter Army Airfield

Savannah GA 31409

Status: Excess

Comments: 1752 sq. ft., most recent use—BN, HQ bldg., off-site use only

Bldg. 01021

Property Number: 21200840062

Hunter Army Airfield

Savannah GA 31409

Status: Excess

Comments: 6855 sq. ft., most recent use—admin., presence of asbestos, off-site use only

Bldg. 07335

Property Number: 21200840063

Fort Stewart

Hinesville GA 31314

Status: Excess

Comments: 4400 sq. ft., most recent use—chapel, off-site use only

Bldg. 07778

Property Number: 21200840064

Fort Stewart

Hinesville GA 31314

Status: Excess

Comments: 1189 sq. ft., most recent use—admin., off-site use only

7 Bldgs.

Property Number: 21200840065

Fort Stewart

Hinesville GA 31314

Location: 12601, 12602, 12603, 12605, 12606, 12607, 12609

Status: Excess

Comments: 2953 sq. ft. each, presence of asbestos, most recent use—barracks, off-site use only

9 Bldgs.

Property Number: 21200840066

Fort Stewart

Hinesville GA 31314

Location: 12610, 12611, 12612, 12613, 12614, 12615, 12616, 12617, 12618

Status: Excess

Comments: 2953 sq. ft., presence of asbestos, most recent use—barracks, off-site use only

Bldg. 12619

Property Number: 21200840067

Fort Stewart

Hinesville GA 31314

Status: Excess

Comments: 3099 sq. ft. presence of asbestos, most recent use—barracks, off-site use only

Bldg. 12682

Property Number: 21200840068

Fort Stewart

Hinesville GA 31314

Status: Excess

Comments: 120 sq. ft., presence of asbestos, most recent use—fuel/POL bldg., off-site use only

Hawaii

Building

P-88

Property Number: 21199030324

Aliamanu Military Reservation

Honolulu Co: Honolulu HI 96818

Location: Approximately 600 feet from Main Gate on Aliamanu Drive.

Status: Unutilized

Comments: 45,216 sq. ft. underground tunnel complex, pres. of asbestos clean-up required of contamination, use of respirator required by those entering property, use limitations

Illinois

Building

Bldg. 54

Property Number: 21199620666

Rock Island Arsenal

Rock Island Co: Rock Island IL 61299

Status: Unutilized

Comments: 2000 sq. ft., most recent use—oil storage, needs repair, off-site use only

Bldg. AR112

Property Number: 21200110081

Sheridan Reserve

Arlington Heights IL 60052-2475

Status: Unutilized

Comments: 1000 sq. ft., off-site use only

Bldgs. 634, 639

Property Number: 21200740186

Fort Sheridan

Ft. Sheridan IL 60037

Status: Unutilized

Comments: 3731/3706 sq. ft., most recent use—classroom/storage, off-site use only

Iowa

Building

Bldg. 00691

Property Number: 21200510073

Iowa Army Ammo Plant

Middletown Co: Des Moines IA 52638

Status: Unutilized

Comments: 2581 sq. ft. residence, presence of lead paint, possible asbestos

Bldg. 00691

Property Number: 21200520113

Iowa Army Ammo Plant

Middletown Co: Des Moines IA 52638

Status: Unutilized

Comments: 2581 sq. ft., presence of asbestos/lead paint, most recent use—residential

Kentucky

Building

Bldgs. 02660, 03706

Property Number: 21200830003

Fort Campbell

Christian KY 42223

Status: Underutilized

Comments: 4000 sq. ft. each, off-site use only

Louisiana

Building

Bldg. 8423, Fort Polk

Property Number: 21199640528

Ft. Polk Co: Vernon Parish LA 71459

Status: Underutilized

Comments: 4172 sq. ft., most recent use—barracks

Bldg. T7125

Property Number: 21200540088

Fort Polk

Ft. Polk LA 71459

Status: Unutilized

Comments: 1875 sq. ft., off-site use only

Bldgs. T7163, T8043

Property Number: 21200540089

Fort Polk

Ft. Polk LA 71459

Status: Unutilized

Comments: 4073/1923 sq. ft., off-site use only

Maryland

Building

Bldg. 0459B

Property Number: 21200120106

Aberdeen Proving Ground

Aberdeen Co: Harford MD 21005-5001

Status: Unutilized

Comments: 225 sq. ft., poor condition, most recent use—equipment bldg., off-site use only

Bldg. 00785

Property Number: 21200120107

Aberdeen Proving Ground

Aberdeen Co: Harford MD 21005-5001

Status: Unutilized

Comments: 160 sq. ft., poor condition, most recent use—shelter, off-site use only

Bldg. E5239

Property Number: 21200120113

Aberdeen Proving Ground

Aberdeen Co: Harford MD 21005-5001

Status: Unutilized

Comments: 230 sq. ft., most recent use—storage, off-site use only

Bldg. E5317

Property Number: 21200120114

Aberdeen Proving Ground

Aberdeen Co: Harford MD 21005-5001

Status: Unutilized

Comments: 3158 sq. ft., presence of asbestos/lead paint, most recent use—lab, off-site use only

Bldg. E5637

Property Number: 21200120115

Aberdeen Proving Ground

Aberdeen Co: Harford MD 21005-5001

Status: Unutilized

Comments: 312 sq. ft., presence of asbestos/lead paint, most recent use—lab, off-site use only

Bldg. 219

Property Number: 21200140078

Ft. George G. Meade

Ft. Meade Co: Anne Arundel MD 20755

Status: Unutilized

Comments: 8142 sq. ft., presence of asbestos/lead paint, most recent use—admin., off-site use only

Bldg. 294

Property Number: 21200140081

Ft. George G. Meade

Ft. Meade Co: Anne Arundel MD 20755

Status: Unutilized

Comments: 3148 sq. ft., presence of asbestos/lead paint, most recent use—entomology facility, offsite use only

Bldg. 1007

Property Number: 21200140085

Ft. George G. Meade

Ft. Meade Co: Anne Arundel MD 20755

Status: Unutilized

Comments: 3108 sq. ft., presence of asbestos/lead paint, most recent use—storage, off-site use only

Bldg. 2214

Property Number: 21200230054

Fort George G. Meade

Fort Meade Co: Anne Arundel MD 20755

Status: Unutilized

Comments: 7740 sq. ft., needs rehab, possible asbestos/lead paint, most recent use—storage, offsite use only

Bldg. 00375

Property Number: 21200320107

Aberdeen Proving Grounds

Aberdeen Co: Harford MD 21005

Status: Unutilized

Comments: 64 sq. ft., most recent use—storage, off-site use only

Bldg. 0385A

Property Number: 21200320110

Aberdeen Proving Grounds

Aberdeen Co: Harford MD 21005

Status: Unutilized

Comments: 944 sq. ft., off-site use only

Bldg. 00523

Property Number: 21200320113

Aberdeen Proving Grounds

Aberdeen Co: Harford MD 21005

Status: Unutilized

Comments: 3897 sq. ft., most recent use—paint shop, off-site use only

Bldg. 0700B

Property Number: 21200320121

Aberdeen Proving Grounds

Aberdeen Co: Harford MD 21005

Status: Unutilized

Comments: 505 sq. ft., off-site use only

Bldg. 01113

Property Number: 21200320128

Aberdeen Proving Grounds

Aberdeen Co: Harford MD 21005

Status: Unutilized

Comments: 1012 sq. ft., off-site use only

Bldgs. 01124, 01132

Property Number: 21200320129

Aberdeen Proving Grounds

Aberdeen Co: Harford MD 21005

Status: Unutilized

Comments: 740/2448 sq. ft., most recent use—lab, off-site use only

Bldg. 03558

Property Number: 21200320133

Aberdeen Proving Grounds

Aberdeen Co: Harford MD 21005

Status: Unutilized

Comments: 18,000 sq. ft., most recent use—storage, off-site use only

Bldg. 05262

Property Number: 21200320136

Aberdeen Proving Grounds

Aberdeen Co: Harford MD 21005

Status: Unutilized

Comments: 864 sq. ft., most recent use—storage, off-site use only

Bldg. 05608

Property Number: 21200320137

Aberdeen Proving Grounds

Aberdeen Co: Harford MD 21005

Status: Unutilized

Comments: 1100 sq. ft., most recent use—maint bldg., off-site use only

Bldg. E5645

Property Number: 21200320150

Aberdeen Proving Grounds

Aberdeen Co: Harford MD 21005

Status: Unutilized

Comments: 548 sq. ft., most recent use—storage, off-site use only

Bldg. 00435

Property Number: 21200330111

Aberdeen Proving Grounds

Aberdeen Co: Harford MD 21005

Status: Unutilized

Comments: 1191 sq. ft., needs rehab, most recent use—storage, off-site use only

Bldg. 0449A

Property Number: 21200330112

Aberdeen Proving Grounds

Aberdeen Co: Harford MD 21005

Status: Unutilized

Comments: 143 sq. ft., needs rehab, most recent use—substation switch bldg., off-site use only

Bldg. 0460

Property Number: 21200330114

Aberdeen Proving Grounds

Aberdeen Co: Harford MD 21005

Status: Unutilized

Comments: 1800 sq. ft., needs rehab, most recent use—electrical EQ bldg., off-site use only

Bldg. 00914

Property Number: 21200330118

Aberdeen Proving Grounds

Aberdeen Co: Harford MD 21005

Status: Unutilized

Comments: needs rehab, most recent use—safety shelter, off-site use only

Bldg. 00915

Property Number: 21200330119

Aberdeen Proving Grounds

Aberdeen Co: Harford MD 21005

Status: Unutilized

Comments: 247 sq. ft., needs rehab, most recent use—storage, off-site use only

Bldg. 01189

Property Number: 21200330126

Aberdeen Proving Grounds

Aberdeen Co: Harford MD 21005

Status: Unutilized

Comments: 800 sq. ft., needs rehab, most recent use—range bldg., off-site use only

Bldg. E1413

Property Number: 21200330127

Aberdeen Proving Grounds

Aberdeen Co: Harford MD 21005

Status: Unutilized

Comments: needs rehab, most recent use—observation tower, off-site use only

Bldg. E3175

Property Number: 21200330134

Aberdeen Proving Grounds

Aberdeen Co: Harford MD 21005

Status: Unutilized

Comments: 1296 sq. ft., needs rehab, most recent use—hazard bldg., off-site use only

4 Bldgs.

Property Number: 21200330135

Aberdeen Proving Grounds

Aberdeen Co: Harford MD 21005

Location: E3224, E3228, E3230, E3232, E3234

Status: Unutilized

Comments: sq. ft. varies, needs rehab, most recent use—lab test bldgs., off-site use only

Bldg. E3241

Property Number: 21200330136

Aberdeen Proving Grounds

Aberdeen Co: Harford MD 21005

Status: Unutilized

Comments: 592 sq. ft., needs rehab, most recent use—medical res bldg., off-site use only

Bldg. E3300

Property Number: 21200330139

Aberdeen Proving Grounds

Aberdeen Co: Harford MD 21005

Status: Unutilized

Comments: 44,352 sq. ft., needs rehab, most recent use—chemistry lab, off-site use only

Bldg. E3335

Property Number: 21200330144

Aberdeen Proving Grounds

Aberdeen Co: Harford MD 21005

Status: Unutilized

Comments: 400 sq. ft., needs rehab, most recent use—storage, off-site use only

Bldgs. E3360, E3362, E3464

Property Number: 21200330145

Aberdeen Proving Grounds

Aberdeen Co: Harford MD 21005

Status: Unutilized

Comments: 3588/236 sq. ft., needs rehab, most recent use—storage, off-site use only

Bldg. E3542

Property Number: 21200330148

Aberdeen Proving Grounds

Aberdeen Co: Harford MD 21005

Status: Unutilized

Comments: 1146 sq. ft., needs rehab, most recent use—lab test bldg., off-site use only

Bldg. E4420

Property Number: 21200330151

Aberdeen Proving Grounds

Aberdeen Co: Harford MD 21005

Status: Unutilized

Comments: 14,997 sq. ft., needs rehab, most recent use—police bldg., off-site use only

4 Bldgs.

Property Number: 21200330154

Aberdeen Proving Grounds

Aberdeen Co: Harford MD 21005

Location: E5005, E5049, E5050, E5051

Status: Unutilized

Comments: sq. ft. varies, needs rehab, most recent use—storage, off-site use only

Bldg. E5068

Property Number: 21200330155

Aberdeen Proving Grounds

Aberdeen Co: Harford MD 21005

Status: Unutilized

Comments: 1200 sq. ft., needs rehab, most recent use—fire station, off-site use only

Bldgs. 05448, 05449

Property Number: 21200330161

Aberdeen Proving Grounds

Aberdeen Co: Harford MD 21005

Status: Unutilized

Comments: 6431 sq. ft., needs rehab, most recent use—enlisted UHP, off-site use only

Bldg. 05450

Property Number: 21200330162

Aberdeen Proving Grounds

Aberdeen Co: Harford MD 21005

Status: Unutilized

Comments: 2730 sq. ft., needs rehab, most recent use—admin., off-site use only

Bldgs. 05451, 05455

Property Number: 21200330163

Aberdeen Proving Grounds

Aberdeen Co: Harford MD 21005

Status: Unutilized

Comments: 2730/6431 sq. ft., needs rehab, most recent use—storage, off-site use only

Bldg. 05453

Property Number: 21200330164

Aberdeen Proving Grounds

Aberdeen Co: Harford MD 21005

Status: Unutilized

Comments: 6431 sq. ft., needs rehab, most recent use—admin., off-site use only

Bldg. E5609

Property Number: 21200330167

Aberdeen Proving Grounds

Aberdeen Co: Harford MD 21005

Status: Unutilized

Comments: 2053 sq. ft., needs rehab, most recent use—storage, off-site use only

Bldg. E5611

Property Number: 21200330168

Aberdeen Proving Grounds

Aberdeen Co: Harford MD 21005

Status: Unutilized

Comments: 11,242 sq. ft., needs rehab, most recent use—hazard bldg., off-site use only

Bldg. E5634

Property Number: 21200330169

Aberdeen Proving Grounds

Aberdeen Co: Harford MD 21005

Status: Unutilized

Comments: 200 sq. ft., needs rehab, most recent use—flammable storage, off-site use only

Bldg. E5654

Property Number: 21200330171

Aberdeen Proving Grounds

Aberdeen Co: Harford MD 21005

Status: Unutilized

Comments: 21,532 sq. ft., needs rehab, most recent use—storage, off-site use only

Bldg. E5942

Property Number: 21200330176

Aberdeen Proving Grounds

Aberdeen Co: Harford MD 21005

Status: Unutilized

Comments: 2147 sq. ft., needs rehab, most recent use—igloo storage, off-site use only

Bldgs. E5952, E5953

Property Number: 21200330177

Aberdeen Proving Grounds

Aberdeen Co: Harford MD 21005

Status: Unutilized

Comments: 100/24 sq. ft., needs rehab, most recent use—compressed air bldg., off-site use only

Bldgs. E7401, E7402

Property Number: 21200330178

Aberdeen Proving Grounds

Aberdeen Co: Harford MD 21005

Status: Unutilized

Comments: 256/440 sq. ft., needs rehab, most recent use—storage, off-site use only

Bldg. E7407, E7408

Property Number: 21200330179

Aberdeen Proving Grounds

Aberdeen Co: Harford MD 21005

Status: Unutilized

Comments: 1078/762 sq. ft., needs rehab, most recent use—decon facility, off-site use only

Bldg. 3070A

Property Number: 21200420055

Aberdeen Proving Ground

Harford MD 21005

Status: Unutilized

Comments: 2299 sq. ft., most recent use—heat plant, off-site use only

Bldg. E5026

Property Number: 21200420056

Aberdeen Proving Ground

Harford MD 21005

Status: Unutilized

Comments: 20,536 sq. ft., most recent use—storage, off-site use only

Bldg. 05261

Property Number: 21200420057

Aberdeen Proving Ground

Harford MD 21005

Status: Unutilized

Comments: 10067 sq. ft., most recent use—maintenance, off-site use only

Bldg. E5876

Property Number: 21200440073

Aberdeen Proving Grounds

Aberdeen Co: Harford MD 21005

Status: Unutilized

Comments: 1192 sq. ft., needs rehab, most recent use—storage, off-site use only

Bldg. 00688

Property Number: 21200530080

Aberdeen Proving Ground

Aberdeen Co: Harford MD 21005

Status: Unutilized

Comments: 24,192 sq. ft., most recent use—ammo, off-site use only

Bldg. 04925

Property Number: 21200540091

Aberdeen Proving Ground

Aberdeen Co: Harford MD 21005

Status: Unutilized

Comments: 1326 sq. ft., off-site use only

Bldg. 00255

Property Number: 21200720052

Aberdeen Proving Ground

Harford MD 21005

Status: Unutilized

Comments: 64 sq. ft., most recent use—storage, off-site use only

Bldg. 00638

Property Number: 21200720053

Aberdeen Proving Ground

Harford MD 21005

Status: Unutilized

Comments: 4295 sq. ft., most recent use—storage, off-site use only

Bldg. 00721

Property Number: 21200720054

Aberdeen Proving Ground

Harford MD

Status: Unutilized

Comments: 135 sq. ft., most recent use—storage, off-site use only

Bldgs. 00936, 00937

Property Number: 21200720055

Aberdeen Proving Ground

Harford MD 21005

Status: Unutilized

Comments: 2000 sq. ft., most recent use—storage, off-site use only

Bldgs. E1410, E1434

Property Number: 21200720056

Aberdeen Proving Ground

Harford MD 21005

Status: Unutilized

Comments: 2276/3106 sq. ft., most recent use—laboratory, off-site use only

Bldg. 03240

Property Number: 21200720057

Aberdeen Proving Ground

Harford MD 21005

Status: Unutilized

Comments: 10,049 sq. ft., most recent use—office, off-site use only

Bldg. E3834

Property Number: 21200720058

Aberdeen Proving Ground

Harford MD 21005

Status: Unutilized

Comments: 72 sq. ft., most recent use—office, off-site use only

Bldgs. E4465, E4470, E4480

Property Number: 21200720059

Aberdeen Proving Ground

Harford MD 21005

Status: Unutilized

Comments: 17658/16876/17655 sq. ft., most recent use—office, off-site use only

Bldgs. E5137, 05219

Property Number: 21200720060

Aberdeen Proving Ground

Harford MD 21005

Status: Unutilized

Comments: 3700/8175 sq. ft., most recent use—office, off-site use only

Bldg. E5236

Property Number: 21200720061

Aberdeen Proving Ground

Harford MD 21005

Status: Unutilized

Comments: 10,325 sq. ft., most recent use—storage, off-site use only

Bldg. E5282

Property Number: 21200720062

Aberdeen Proving Ground

Harford MD 21005

Status: Unutilized

Comments: 4820 sq. ft., most recent use—hazard bldg., off-site use only

Bldgs. E5736, E5846, E5926

Property Number: 21200720063

Aberdeen Proving Ground

Harford MD 21005

Status: Unutilized

Comments: 1069/4171/11279 sq. ft., most recent use—storage, off-site use only

Bldg. E6890

Property Number: 21200720064

Aberdeen Proving Ground

Harford MD 21005

Status: Unutilized

Comments: 1 sq. ft., most recent use—impact area, off-site use only

Bldg. 00310

Property Number: 21200820077

Aberdeen Proving Ground

Harford MD 21005

Status: Unutilized

Comments: 56516 sq. ft., most recent use—admin., off-site use only

Bldg. 00315

Property Number: 21200820078

Aberdeen Proving Ground

Harford MD

Status: Unutilized

Comments: 74396 sq. ft., most recent use—mach shop, off-site use only

Bldg. 00338

Property Number: 21200820079

Aberdeen Proving Ground

Harford MD

Status: Unutilized

Comments: 45443 sq. ft., most recent use—gnd tran eqp, off-site use only

Bldg. 00360

Property Number: 21200820080

Aberdeen Proving Ground

Harford MD

Status: Unutilized

Comments: 15287 sq. ft., most recent use—general inst., off-site use only

Bldg. 00445

Property Number: 21200820081

Aberdeen Proving Ground

Harford MD

Status: Unutilized

Comments: 6367 sq. ft., most recent use—lab, off-site use only

Bldg. 00851

Property Number: 21200820082

Aberdeen Proving Ground

Harford MD

Status: Unutilized

Comments: 694 sq. ft., most recent use—range bldg., off-site use only

E1043

Property Number: 21200820083

Aberdeen Proving Ground

Harford MD

Status: Unutilized

Comments: 5200 sq. ft., most recent use—lab, off-site use only

Bldg. 01089

Property Number: 21200820084

Aberdeen Proving Ground

Harford MD

Status: Unutilized

Comments: 12369 sq. ft., most recent use—veh maint, off-site use only

Bldg. 01091

Property Number: 21200820085

Aberdeen Proving Ground

Harford MD

Status: Unutilized

Comments: 2201 sq. ft., most recent use—storage, off-site use only

Bldg. E1386

Property Number: 21200820086

Aberdeen Proving Ground

Harford MD

Status: Unutilized

Comments: 251 sq. ft., most recent use—eng/mnt, off-site use only

5 Bldgs.

Property Number: 21200820087

Aberdeen Proving Ground

Harford MD

Location: E1440, E1441, E1443, E1445, E1455

Status: Unutilized

Comments: 112 sq. ft., most recent use—safety shelter, off-site use only

Bldgs. E1467, E1485

Property Number: 21200820088

Aberdeen Proving Ground

Harford MD

Status: Unutilized

Comments: 160/800 sq. ft., most recent use—storage, off-site use only

Bldg. E1521

Property Number: 21200820090

Aberdeen Proving Ground

Harford MD

Status: Unutilized

Comments: 1200 sq. ft., most recent use—overhead protection, off-site use only

Bldg. E1570

Property Number: 21200820091

Aberdeen Proving Ground

Harford MD

Status: Unutilized

Comments: 47027 sq. ft., most recent use—office, off-site use only

Bldg. E1572

Property Number: 21200820092

Aberdeen Proving Ground

Harford MD

Status: Unutilized

Comments: 1402 sq. ft., most recent use—maint., off-site use only

4 Bldgs.

Property Number: 21200820093

Aberdeen Proving Ground

Harford MD

Location: E1645, E1675, E1677, E1930

Status: Unutilized

Comments: Various sq. ft., most recent use—office, off-site use only

Bldgs. E2160, E2184, E2196

Property Number: 21200820094

Aberdeen Proving Ground

Harford MD

Status: Unutilized

Comments: 12440/13816 sq. ft., most recent use—storage, off-site use only

Bldg. E2174

Property Number: 21200820095

Aberdeen Proving Ground

Harford MD

Status: Unutilized

Comments: 132 sq. ft., off-site use only

Bldgs. 02208, 02209

Property Number: 21200820096

Aberdeen Proving Ground

Harford MD

Status: Unutilized

Comments: 11566/18085 sq. ft., most recent use—lodging, off-site use only

Bldg. 02353

Property Number: 21200820097

Aberdeen Proving Ground

Harford MD

Status: Unutilized

Comments: 19252 sq. ft., most recent use—veh maint, off-site use only

Bldgs. 02482, 02484

Property Number: 21200820098

Aberdeen Proving Ground

Harford MD

Status: Unutilized

Comments: 8359 sq. ft., most recent use—gen purp, off-site use only

Bldg. 02483

Property Number: 21200820099

Aberdeen Proving Ground

Harford MD

Status: Unutilized

Comments: 1360 sq. ft., most recent use—heat plt, off-site use only

Bldgs. 02504, 02505

Property Number: 21200820100

Aberdeen Proving Ground

Harford MD

Status: Unutilized

Comments: 11720/17434 sq. ft., most recent use—lodging, off-site use only

Bldgs. 02831, E3488

Property Number: 21200820101

Aberdeen Proving Ground

Harford MD

Status: Unutilized

Comments: 576/64 sq. ft., most recent use—access cnt fac, off-site use only

Bldg. 2831A

Property Number: 21200820102

Aberdeen Proving Ground

Harford MD

Status: Unutilized

Comments: 1200 sq. ft., most recent use—overhead protection, off-site use only

Bldg. 03320

Property Number: 21200820103

Aberdeen Proving Ground

Harford MD

Status: Unutilized

Comments: 10600 sq. ft., most recent use—admin, off-site use only

Bldg. E3466

Property Number: 21200820104

Aberdeen Proving Ground

Aberdeen MD

Status: Unutilized

Comments: 236 sq. ft., most recent use—protective barrier, off-site use only

4 Bldgs.

Property Number: 21200820105

Aberdeen Proving Ground

Harford MD

Location: E3510, E3570, E3640, E3832

Status: Unutilized

Comments: Various sq. ft., most recent use—lab, off-site use only

Bldg. E3544

Property Number: 21200820106

Aberdeen Proving Ground

Harford MD

Status: Unutilized

Comments: 5400 sq. ft., most recent use—ind waste, off-site use only

Bldgs. E3561, 03751

Property Number: 21200820107

Aberdeen Proving Ground

Harford MD

Status: Unutilized

Comments: 64/189 sq. ft., most recent use—access cnt fac, off-site use only

Bldg. 03754

Property Number: 21200820108

Aberdeen Proving Ground

Harford MD

Status: Unutilized

Comments: 324 sq. ft., most recent use—classroom, off-site use only

Bldg. 3823A

Property Number: 21200820109

Aberdeen Proving Ground

Harford MD

Status: Unutilized

Comments: 113 sq. ft., most recent use—shed, off-site use only

Bldg. E3948

Property Number: 21200820110

Aberdeen Proving Ground

Harford MD

Status: Unutilized

Comments: 3420 sq. ft., most recent use—emp chg fac, off-site use only

4 Bldgs.

Property Number: 21200820111

Aberdeen Proving Ground

Harford MD

Location: E5057, E5058, E5246, 05258

Status: Unutilized

Comments: Various sq. ft., most recent use—storage, off-site use only

Bldgs. E5106, 05256

Property Number: 21200820112

Aberdeen Proving Ground

Harford MD

Status: Unutilized

Comments: 18621/8720 sq. ft., most recent use—office, off-site use only

Bldg. E5126

Property Number: 21200820113

Aberdeen Proving Ground

Harford MD

Status: Unutilized

Comments: 17664 sq. ft., most recent use—heat plt, off-site use only

Bldg. E5128

Property Number: 21200820114

Aberdeen Proving Ground

Harford MD

Status: Unutilized

Comments: 3750 sq. ft., most recent use—substation, off-site use only

Bldg. E5188

Property Number: 21200820115

Aberdeen Proving Ground

Harford MD

Status: Unutilized

Comments: 22790 sq. ft., most recent use—lab, off-site use only

Bldg. E5179

Property Number: 21200820116

Aberdeen Proving Ground

Harford MD

Status: Unutilized

Comments: 47335 sq. ft., most recent use—info sys, off-site use only

Bldg. E5190

Property Number: 21200820117

Aberdeen Proving Ground

Harford MD

Status: Unutilized

Comments: 874 sq. ft., most recent use—storage, off-site use only

Bldg. 05223

Property Number: 21200820118

Aberdeen Proving Ground

Harford MD

Status: Unutilized

Comments: 6854 sq. ft., most recent use—gen rep inst, off-site use only

Bldgs. 05259, 05260

Property Number: 21200820119

Aberdeen Proving Ground

Harford MD

Status: Unutilized

Comments: 10067 sq. ft., most recent use—maint, off-site use only

Bldgs. 05263, 05264

Property Number: 21200820120

Aberdeen Proving Ground

Harford MD

Status: Unutilized

Comments: 200 sq. ft., most recent use—org space, off-site use only

5 Bldgs.

Property Number: 21200820121

Aberdeen Proving Ground

Harford MD

Location: 05267, E5294, E5327, E5441, E5485

Status: Unutilized

Comments: Various sq. ft., most recent use—storage, off-site use only

Bldg. E5292

Property Number: 21200820122

Aberdeen Proving Ground

Harford MD

Status: Unutilized

Comments: 1166 sq. ft., most recent use—comp rep inst, off-site use only

Bldg. E5380

Property Number: 21200820123

Aberdeen Proving Ground

Harford MD

Status: Unutilized

Comments: 9176 sq. ft., most recent use—lab, off-site use only

Bldg. E5452

Property Number: 21200820124

Aberdeen Proving Ground

Harford MD

Status: Unutilized

Comments: 9623 sq. ft., off-site use only

Bldg. 05654

Property Number: 21200820125

Aberdeen Proving Ground

Harford MD

Status: Unutilized

Comments: 38 sq. ft. most recent use—shed, off-site use only

Bldg. 05656

Property Number: 21200820126

Aberdeen Proving Ground

Harford MD

Status: Unutilized

Comments: 2240 sq. ft., most recent use—overhead protection off-site use only

5 Bldgs.

Property Number: 21200820127

Aberdeen Proving Ground

Harford MD

Location: E5730, E5738, E5915, E5928, E6875

Status: Unutilized

Comments: Various sq. ft., most recent use—storage, off-site use only

Bldg. E5770

Property Number: 21200820128

Aberdeen Proving Ground

Harford MD

Status: Unutilized

Comments: 174 sq. ft., most recent use—cent wash, off-site use only

Bldg. E5840

Property Number: 21200820129

Aberdeen Proving Ground

Harford MD

Status: Unutilized

Comments: 14200 sq. ft., most recent use—lab, off-site use only

Bldg. E5946

Property Number: 21200820130

Aberdeen Proving Ground

Harford MD

Status: Unutilized

Comments: 2147 sq. ft., most recent use—igloo str, off-site use only

Bldg. E6872

Property Number: 21200820131

Aberdeen Proving Ground

Harford MD

Status: Unutilized

Comments: 1380 sq. ft., most recent use—dispatch, off-site use only

Bldgs. E7331, E7332, E7333

Property Number: 21200820132

Aberdeen Proving Ground

Harford MD

Status: Unutilized

Comments: Most recent use—protective barrier, off-site use only

Bldg. E7821

Property Number: 21200820133

Aberdeen Proving Ground

Harford MD

Status: Unutilized

Comments: 3500 sq. ft., Most recent use—xmitter bldg, off-site use only

Land

2 acres

Property Number: 21200640095

Fort Meade

Odenton Rd/Rt 175

Ft. Meade MD 20755

Status: Unutilized

Comments: Light industrial

16 acres

Property Number: 21200640096

Fort Meade

Rt 198/Airport Road

Ft. Meade MD 20755

Status: Unutilized

Comments: Light industrial

Missouri

Building

Bldg. T1497

Property Number: 21199420441

Fort Leonard Wood

Ft. Leonard Wood Co: Pulaski MO 65473-5000

Status: Underutilized

Comments: 4720 sq. ft., 2-story, presence of lead base paint, most recent use—admin/gen. purpose, off-site use only

Bldg. T2139

Property Number: 21199420446

Fort Leonard Wood

Ft. Leonard Wood Co: Pulaski MO 65473-5000

Status: Underutilized

Comments: 3663 sq. ft., 1-story, presence of lead base paint, most recent use—admin/gen. purpose, off-site use only

Bldg. T2385

Property Number: 21199510115

Fort Leonard Wood

Ft. Leonard Wood Co: Pulaski MO 65473

Status: Excess

Comments: 3158 sq. ft., 1-story, wood frame, most recent use—admin., to be vacated 8/95, off-site use only

Bldg. 2167

Property Number: 21199820179

Fort Leonard Wood

Ft. Leonard Wood Co: Pulaski MO 65473-5000

Status: Unutilized

Comments: 1296 sq. ft., presence of asbestos/lead paint, most recent use—admin., off-site use only

Bldgs. 2192, 2196, 2198

Property Number: 21199820183

Fort Leonard Wood

Ft. Leonard Wood Co: Pulaski MO 65473-5000

Status: Unutilized

Comments: 4720 sq. ft., presence of asbestos/lead paint, most recent use—barracks, off-site use only

12 Bldgs

Property Number: 21200410110

Fort Leonard Wood

Ft. Leonard Wood Co: Pulaski MO 65743-8944

Location: 07036, 07050, 07054, 07102, 07400, 07401, 08245, 08249, 08251, 08255, 08257, 08261.

Status: Unutilized

Comments: 7152 sq. ft. 6 plex housing quarters, potential contaminants, off-site use only.

6 Bldgs

Property Number: 21200410111

Fort Leonard Wood

Ft. Leonard Wood Co: Pulaski MO 65743-8944

Location: 07044, 07106, 07107, 08260, 08281, 08300

Status: Unutilized

Comments: 9520 sq ft., 8 plex housing quarters, potential contaminants, off-site use only.

15 Bldgs

Property Number: 21200410112

Fort Leaonard Wood

Ft. Leonard Wood Co: Pulaski MO 65743-8944

Location: 08242, 08243, 08246-08248, 08250, 08252-08254, 08256, 08258-08259, 08262-08263, 08265

Status: Unutilized

Comments: 4784 sq ft., 4 plex housing quarters, potential contaminants, off-site use only.

Bldgs 08283, 08285

Property Number: 21200410113

Fort Leonard Wood

Ft. Leonard Wood Co: Pulaski MO 65743-8944

Status: Unutilized

Comments: 2240 sq ft, 2 plex housing quarters, potential contaminants, off-site use only

15 Bldgs

Property Number: 21200410114

Fort Leonard Wood

Ft. Leonard Wood Co: Pulaski MO 65743-0827

Location: 08267, 08269, 08271, 08273, 08275, 08277, 08279, 08290 08296, 08301

Status: Unutilized

Comments: 4784 sq ft., 4 plex housing quarters, potential contaminants, off-site use only

Bldg 09432

Property Number: 21200410115

Fort Leonard Wood

Ft. Leonard Wood Co: Pulaski MO 65743-8944

Status: Unutilized

Comments: 8724 sq ft., 6-plex housing quarters, potential contaminants, off-site use only

Bldgs. 5006 and 5013

Property Number: 21200430064

Fort Leonard Wood

Ft. Leonard Wood Co: Pulaski MO 65743-8944

Status: Unutilized

Comments: 192 sq. ft., needs repair, most recent use—generator bldg., off-site use only

Bldgs. 13210, 13710

Property Number: 21200430065

Fort Leonard Wood

Ft. Leonard Wood Co: Pulaski MO 65743-8944

Status: Unutilized

Comments: 144 sq. ft. each, needs repair, most recent use—communication, off-site use only

Montana

Building

Bldg. 00405

Property Number: 21200130099

Fort Harrison

Ft. Harrison Co: Lewis/Clark MT 59636

Status: Unutilized

Comments: 3467 sq. ft., most recent use—storage, security limitations

Bldg. T0066

Property Number: 21200130100

Fort Harrison

Ft. Harrison Co: Lewis/Clark MT 59636

Status: Unutilized

Comments: 528 sq. ft., needs rehab, presence of asbestos, security limitations

Bldg. 00001

Property Number: 21200540093

Sheridan Hall USARC

Helena MT 59601

Status: Unutilized

Comments: 19,321 sq. ft., most recent use—Reserve Center

Bldg. 00003

Property Number: 21200540094

Sheridan Hall USARC

Helena MT 59601

Status: Unutilized

Comments: 1950 sq. ft., most recent use—maintenance/storage

New Jersey

Building

Bldg. 732

Property Number: 21199740315

Armament R Engineering Center

Picatinny Arsenal Co: Morris NJ 07806-5000

Status: Unutilized

Comments: 9077 sq. ft., needs rehab, most recent use—storage, off-site use only

Bldg. 816C

Property Number: 21200130103

Armament R, D, Center

Picatinny Arsenal Co: Morris NJ 07806-5000

Status: Unutilized

Comments: 144 sq. ft., most recent use—storage, off-site use only

New Mexico

Building

Bldg. 34198

Property Number: 21200230062

White Sands Missile Range

Dona Ana NM 88002

Status: Excess

Comments: 107 sq. ft., most recent use—security, off-site use only

New York

Building

Bldg. 1227

Property Number: 21200440074

U.S. Military Academy

Highlands Co: Orange NY 10996-1592

Status: Unutilized

Comments: 3800 sq. ft., needs repair, possible asbestos/lead paint, most recent use—maintenance, off-site use only

Bldg. 2218

Property Number: 21200510067

Stewart Newburg USARC

New Windsor Co: Orange NY 12553-9000

Status: Unutilized

Comments: 32,000 sq. ft., poor condition, requires major repairs, most recent use—storage/services

7 Bldgs.

Property Number: 21200510068

Stewart Newburg USARC

New Windsor Co: Orange NY 12553-9000

Location: 2122, 2124, 2126, 2128, 2106, 2108, 2104

Status: Unutilized

Comments: Sq. ft. varies, poor condition, needs major repairs, most recent use—storage/services

Ohio

Land

Property Number: 21200340094

Defense Supply Center

Columbus Co: Franklin OH 43216-5000

Status: Excess

Comments: 11 acres, railroad access

Oklahoma

Building

Bldg. T-838, Fort Sill

Property Number: 21199220609

838 Macomb Road

Lawton Co: Comanche OK 73503-5100

Status: Unutilized

Comments: 151 sq. ft., wood frame, 1 story, off-site removal only, most recent use—vet facility (quarantine stable).

Bldg. T-954, Fort Sill

Property Number: 21199240659

954 Quinette Road

Lawton Co: Comanche OK 73503-5100

Status: Unutilized

Comments: 3571 sq. ft., 1 story wood frame, needs rehab, off-site use only, most recent use—motor repair shop.

Bldg. T-3325, Fort Sill

Property Number: 21199240681

3325 Naylor Road

Lawton Co: Comanche OK 73503-5100

Status: Unutilized

Comments: 8832 sq. ft., 1 story wood frame, needs rehab, off-site use only, most recent use—warehouse.

Bldg. T-4226

Property Number: 21199440384

Fort Sill

Lawton Co: Comanche OK 73503

Status: Unutilized

Comments: 114 sq. ft., 1-story wood frame, possible asbestos and lead paint, most recent use—storage, off-site use only

Bldg. P-1015, Fort Sill

Property Number: 21199520197

Lawton Co: Comanche OK 73501-5100

Status: Unutilized

Comments: 15402 sq. ft., 1-story, most recent use—storage, off-site use only

Bldg. P-366, Fort Sill

Property Number: 21199610740

Lawton Co: Comanche OK 73503

Status: Unutilized

Comments: 482 sq. ft., possible asbestos, most recent use—storage, off-site use only

Building T-2952

Property Number: 21199710047

Fort Sill

Lawton Co: Comanche OK 73503-5100

Status: Unutilized

Comments: 4,327 sq. ft., possible asbestos and leadpaint, most recent use—motor repair shop, off-site use only

Building P-5042

Property Number: 21199710066

Fort Sill

Lawton Co: Comanche OK 73503-5100

Status: Unutilized

Comments: 119 sq. ft., possible asbestos and leadpaint, most recent use—heatplant, off-site use only

4 Buildings

Property Number: 21199710086

Fort Sill

Lawton Co: Comanche OK 73503-5100

Location: T-6465, T-6466, T-6467, T-6468

Status: Unutilized

Comments: Various sq. ft., possible asbestos and leadpaint, most recent use—range support, off-site use only

Bldg. T-810

Property Number: 21199730350

Fort Sill

Lawton Co: Comanche OK 73503-5100

Status: Unutilized

Comments: 7205 sq. ft., possible asbestos/lead paint, most recent use—hay storage, off-site use only

Bldgs. T-837, T-839

Property Number: 21199730351

Fort Sill

Lawton Co: Comanche OK 73503-5100

Status: Unutilized

Comments: Approx. 100 sq. ft. each, possible asbestos/lead paint, most recent use—storage, off-site use only

Bldg. P-934

Property Number: 21199730353

Fort Sill

Lawton Co: Comanche OK 73503-5100

Status: Unutilized

Comments: 402 sq. ft., possible asbestos/lead paint, most recent use—storage, off-site use only

Bldgs. T-1468, T-1469

Property Number: 21199730357

Fort Sill

Lawton Co: Comanche OK 73503-5100

Status: Unutilized

Comments: 114 sq. ft., possible asbestos/lead paint, most recent use—storage, off-site use only

Bldg. T-1470

Property Number: 21199730358

Fort Sill

Lawton Co: Comanche OK 73503-5100

Status: Unutilized

Comments: 3120 sq. ft., possible asbestos/lead paint, most recent use—storage, off-site use only

Bldgs. T-1954, T-2022

Property Number: 21199730362

Fort Sill

Lawton Co: Comanche OK 73503-5100

Status: Unutilized

Comments: Approx. 100 sq. ft. each, possible asbestos/lead paint, most recent use—storage, offsite use only

Bldg. T-2184

Property Number: 21199730364

Fort Sill

Lawton Co: Comanche OK 73503-5100

Status: Unutilized

Comments: 454 sq. ft., possible asbestos/lead paint, most recent use—storage, off-site use only

Bldgs. T-2186, T-2188,

T-2189 Property Number: 21199730366

Fort Sill

Lawton Co: Comanche OK 73503-5100

Status: Unutilized

Comments: 1656—3583 sq. ft., possible asbestos/lead paint, most recent use—vehicle maint. shop, off-site use only

Bldg. T-2187

Property Number: 21199730367

Fort Sill

Lawton Co: Comanche OK 73503-5100

Status: Unutilized

Comments: 1673 sq. ft., possible asbestos/lead paint, most recent use—storage, off-site use only

Bldgs. T-2291 thru T-2296

Property Number: 21199730372

Fort Sill

Lawton Co: Comanche OK 73503-5100

Status: Unutilized

Comments: 400 sq. ft. each, possible asbestos/lead paint, most recent use—storage, off-site use only

Bldgs. T-3001, T-3006

Property Number: 21199730383

Fort Sill

Lawton Co: Comanche OK 73503-5100

Status: Unutilized

Comments: Approx. 9300 sq. ft., possible asbestos/lead paint, most recent use—storage, off-site use only

Bldg. T-3314

Property Number: 21199730385

Fort Sill

Lawton Co: Comanche OK 73503-5100

Status: Unutilized

Comments: 229 sq. ft., possible asbestos/lead paint, most recent use—office, off-site use only

Bldg. T-5041

Property Number: 21199730409

Fort Sill

Lawton Co: Comanche OK 73503-5100

Status: Unutilized

Comments: 763 sq. ft., possible asbestos/lead paint, most recent use—storage, off-site use only

Bldg. T-5420

Property Number: 21199730414

Fort Sill

Lawton Co: Comanche OK 73503-5100

Status: Unutilized

Comments: 189 sq. ft., possible asbestos/lead paint, most recent use—fuel storage, off-site use only

Bldg. T-7775

Property Number: 21199730419

Fort Sill

Lawton Co: Comanche OK 73503-5100

Status: Unutilized

Comments: 1452 sq. ft., possible asbestos/lead paint, most recent use—private club, off-site use only

4 Bldgs.

Property Number: 21199910133

Fort Sill

P-617, P-1114, P-1386, P-1608

Lawton Co: Comanche OK 73503-5100

Status: Unutilized

Comments: 106 sq. ft., possible asbestos/lead paint, most recent use—utility plant, off-site use only

Bldg. P-746

Property Number: 21199910135

Fort Sill

Lawton Co: Comanche OK 73503-5100

Status: Unutilized

Comments: 6299 sq. ft., possible asbestos/lead paint, most recent use—admin., off-site use only

Bldgs. P-2581, P-2773

Property Number: 21199910140

Fort Sill

Lawton Co: Comanche OK 73503-5100

Status: Unutilized

Comments: 4093 and 4129 sq. ft., possible asbestos/lead paint, most recent use—office, off-site use only

Bldg. P-2582

Property Number: 21199910141

Fort Sill

Lawton Co: Comanche OK 73503-5100

Status: Unutilized

Comments: 3672 sq. ft., possible asbestos/lead paint, most recent use—admin., off-site use only

Bldg. P-2914

Property Number: 21199910146

Fort Sill

Lawton Co: Comanche OK 73503-5100

Status: Unutilized

Comments: 1236 sq. ft., possible asbestos/lead paint, most recent use—storage, off-site use only

Bldg. P-5101

Property Number: 21199910153

Fort Sill

Lawton Co: Comanche OK 73503-5100

Status: Unutilized

Comments: 82 sq. ft., possible asbestos/lead paint, most recent use—gas station, off-site use only

Bldg. S-6430

Property Number: 21199910156

Fort Sill

Lawton Co: Comanche OK 73503-5100

Status: Unutilized

Comments: 2080 sq. ft., possible asbestos/lead paint, most recent use—range support, off-site use only

Bldg. T-6461

Property Number: 21199910157

Fort Sill

Lawton Co: Comanche OK 73503-5100

Status: Unutilized

Comments: 200 sq. ft., possible asbestos/lead paint, most recent use—range support, off-site use only

Bldg. T-6462

Property Number: 21199910158

Fort Sill

Lawton Co: Comanche OK 73503-5100

Status: Unutilized

Comments: 64 sq. ft., possible asbestos/lead paint, most recent use—control tower, off-site use only

Bldg. P-7230

Property Number: 21199910159

Fort Sill

Lawton Co: Comanche OK 73503-5100

Status: Unutilized

Comments: 160 sq. ft., possible asbestos/lead paint, most recent use—transmitter bldg., off-site use only

Bldg. S-4023

Property Number: 21200010128

Fort Sill

Lawton Co: Comanche OK 73503-5100

Status: Unutilized

Comments: 1200 sq. ft., possible asbestos/lead paint, most recent use—storage, off-site use only

Bldg. P-747

Property Number: 21200120120

Fort Sill

Lawton Co: Comanche OK 73503-5100

Status: Unutilized

Comments: 9232 sq. ft., possible asbestos/lead paint, most recent use—lab, off-site use only

Bldg. P-842

Property Number: 21200120123

Fort Sill

Lawton Co: Comanche OK 73503-5100

Status: Unutilized

Comments: 192 sq. ft., possible asbestos/lead paint, most recent use—storage, off-site use only

Bldg. T-911

Property Number: 21200120124

Fort Sill

Lawton Co: Comanche OK 73503-5100

Status: Unutilized

Comments: 3080 sq. ft., possible asbestos/lead paint, most recent use—office, off-site use only

Bldg. P-1672

Property Number: 21200120126

Fort Sill

Lawton Co: Comanche OK 73503-5100

Status: Unutilized

Comments: 1056 sq. ft., possible asbestos/lead paint, most recent use—storage, off-site use only

Bldg. S-2362

Property Number: 21200120127

Fort Sill

Lawton Co: Comanche OK 73503-5100

Status: Unutilized

Comments: 64 sq. ft., possible asbestos/lead paint, most recent use—gatehouse, off-site use only

Bldg. P-2589

Property Number: 21200120129

Fort Sill

Lawton Co: Comanche OK 73503-5100

Status: Unutilized

Comments: 3672 sq. ft., possible asbestos/lead paint, most recent use—storage, off-site use only

Bldgs. 01276, 01278

Property Number: 21200520119

Fort Sill

Lawton Co: Comanche OK 73501-5100

Status: Unutilized

Comments: 1533 sq. ft., most recent use—maintenance, off-site use only Page: 67

Bldgs. 00937, 00957

Property Number: 21200710104

Fort Sill

Lawton OK 73501

Status: Unutilized

Comments: 1558 sq. ft., most recent use—storage shed, off-site use only

Bldg.01514

Property Number: 21200710105

Fort Sill

Lawton OK 73501

Status: Unutilized

Comments: 1602 sq. ft., most recent use—storage, off-site use only

Bldg. 05685

Property Number: 21200820152

Fort Sill

Lawton OK 73501

Status: Unutilized

Comments: 24,072 sq. ft., concrete block/w brick, off-site use only

Bldg. 02943

Property Number: 21200830004

Fort Sill

Lawton OK 73501

Status: Unutilized

Comments: 4054 sq. ft., most recent use—admin., off-site use only

Bldgs. 02903, 02941

Property Number: 21200840069

Fort Sill

Lawton OK 73501

Status: Unutilized

Comments: 1236 sq. ft. each, most recent use—admin., off-site use only

South Carolina

Land

One Acre

Property Number: 21200110089

Fort Jackson

Columbia Co: Richland SC 29207

Status: Underutilized

Comments: Approx. 1 acre

South Dakota

Building

Bldg. 03001

Property Number: 21200740187

Jonas H. Lien AFRC

Sioux Falls SD 57104

Status: Unutilized

Comments: 33282 sq. ft., most recent use—training center

Bldg. 03003

Property Number: 21200740188

Jonas H. Lien AFRC

Sioux Falls SD 57104

Status: Unutilized

Comments: 4675 sq. ft., most recent use—vehicle maint. shop

Texas

Building

Bldg. 7137, Fort Bliss

Property Number: 21199640564

El Paso Co: El Paso TX 79916

Status: Unutilized

Comments: 35,736 sq. ft., 3-story, most recent use—housing, off-site use only

Bldg. 92043

Property Number: 21200020206

Fort Hood

Ft. Hood Co: Bell TX 76544

Status: Unutilized

Comments: 450 sq. ft., most recent use—storage, off-site use only

Bldg. 92044

Property Number: 21200020207

Fort Hood

Ft. Hood Co: Bell TX 76544

Status: Unutilized

Comments: 1920 sq. ft., most recent use—admin., off-site use only

Bldg. 92045

Property Number: 21200020208

Fort Hood

Ft. Hood Co: Bell TX 76544

Status: Unutilized

Comments: 2108 sq. ft., most recent use—maint., off-site use only

Bldg. 56305

Property Number: 21200220143

Fort Hood

Ft. Hood Co: Bell TX 76544

Status: Unutilized

Comments: 2160 sq. ft., most recent use—admin., off-site use only

Bldgs. 56620, 56621

Property Number: 21200220146

Fort Hood

Ft. Hood Co: Bell TX 76544

Status: Unutilized

Comments: 1120 sq. ft., most recent use—shower, off-site use only

Bldgs. 56626, 56627

Property Number: 21200220147

Fort Hood

Ft. Hood Co: Bell TX 76544

Status: Unutilized

Comments: 1120 sq. ft., most recent use—shower, off-site use only

Bldg. 56628

Property Number: 21200220148

Fort Hood

Ft. Hood Co: Bell TX 76544

Status: Unutilized

Comments: 1133 sq. ft., most recent use—shower, off-site use only

Bldgs. 56636, 56637

Property Number: 21200220150

Fort Hood

Ft. Hood Co: Bell TX 76544

Status: Unutilized

Comments: 1120 sq. ft., most recent use—shower, off-site use only

Bldg. 56638

Property Number: 21200220151

Fort Hood

Ft. Hood Co: Bell TX 76544

Status: Unutilized

Comments: 1133 sq. ft., most recent use—shower, off-site use only

Bldgs. 56703, 56708

Property Number: 21200220152

Fort Hood

Ft. Hood Co: Bell TX 76544

Status: Unutilized

Comments: 1306 sq. ft., most recent use—shower, off-site use only

Bldg. 56758

Property Number: 21200220154

Fort Hood

Ft. Hood Co: Bell TX 76544

Status: Unutilized

Comments: 1133 sq. ft., most recent use—shower, off-site use only

Bldgs. P6220, P6222

Property Number: 21200330197

Fort Sam Houston

Camp Bullis

San Antonio Co: Bexar TX

Status: Unutilized

Comments: 384 sq. ft., most recent use—carport/storage, off-site use only

Bldgs. P6224, P6226

Property Number: 21200330198

Fort Sam Houston

Camp Bullis

San Antonio Co: Bexar TX

Status: Unutilized

Comments: 384 sq. ft., most recent use—carport/storage, off-site use only

Bldg. 92039

Property Number: 21200640101

Fort Hood

Ft. Hood Co: Bell TX 76544

Status: Excess

Comments: 80 sq. ft., most recent use—storage, off-site use only

Bldgs. 04281, 04283

Property Number: 21200720085

Fort Hood

Bell TX 76544

Status: Excess

Comments: 4000/8020 sq. ft., most recent use—storage shed, off-site use only

Bldg. 04284

Property Number: 21200720086

Fort Hood

Bell TX 76544

Status: Excess

Comments: 800 sq. ft., presence of asbestos, most recent use—storage shed, off-site use only

Bldg. 04285

Property Number: 21200720087

Fort Hood

Bell TX 76544

Status: Excess

Comments: 8000 sq. ft., most recent use—storage shed, off-site use only

Bldg. 04286

Property Number: 21200720088

Fort Hood

Bell TX 76544

Status: Excess

Comments: 36,000 sq. ft., presence of asbestos, most recent use—storage shed, off-site use only

Bldg. 04291

Property Number: 21200720089

Fort Hood

Bell TX 76544

Status: Excess

Comments: 6400 sq. ft., presence of asbestos, most recent use—storage shed, off-site use only

Bldg. 4410

Property Number: 21200720090

Fort Hood

Bell TX 76544

Status: Excess

Comments: 12,956 sq. ft., presence of asbestos, most recent use—simulation center, off-site use only

Bldgs. 10031, 10032, 10033

Property Number: 21200720091

Fort Hood

Bell TX 76544

Status: Excess

Comments: 2578/3383 sq. ft., presence of asbestos, most recent use—admin., off-site use only

Bldgs. 56524, 56532

Property Number: 21200720092

Fort Hood

Bell TX 76544

Status: Excess

Comments: 600 sq. ft., presence of asbestos, most recent use—dining, off-site use only

Bldg. 56435

Property Number: 21200720093

Fort Hood

Bell TX 76544

Status: Excess

Comments: 3441 sq. ft., presence of asbestos, most recent use—barracks, off-site use only

Bldg. 05708

Property Number: 21200720094

Fort Hood

Bell TX 76544

Status: Excess

Comments: 1344 sq. ft., most recent use—community center, off-site use only

Bldg. 90001

Property Number: 21200720095

Fort Hood

Bell TX 76544

Status: Excess

Comments: 3574 sq. ft., presence of asbestos, most recent use—transmitter bldg., off-site use only

Bldg. 93013

Property Number: 21200720099

Fort Hood

Bell TX 76544

Status: Excess

Comments: 800 sq. ft., most recent use—club, off-site use only

5 Bldgs.

Property Number: 21200740195

Fort Hood

Bell TX 76544

Location: 56541, 56546, 56547, 56548, 56638

Status: Excess

Comments: 1120/1133 sq. ft., presence of asbestos, most recent use—lavatory, off-site use only

4 Bldgs.

Property Number: 21200810048

Fort Hood

Bell TX 76544

Location: 00229, 00230, 00231, 00232

Status: Unutilized

Comments: Various sq. ft., presence of asbestos, most recent use—training aids center, off-site use only

Bldg. 00324

Property Number: 21200810049

Fort Hood

Bell TX 76544

Status: Unutilized

Comments: 13,319 sq. ft., most recent use—roller skating rink, off-site use only

Bldgs. 00710, 00739, 00741

Property Number: 21200810050

Fort Hood

Bell TX 76544

Status: Unutilized

Comments: Various sq. ft., presence of asbestos, most recent use—repair shop, off-site use only

5 Bldgs.

Property Number: 21200810051

Fort Hood

Bell TX 76544

Location: 00711, 00712, 02219, 02612, 05780

Status: Unutilized

Comments: Various sq. ft., presence of asbestos, most recent use—storage, off-site use only

Bldg. 00713

Property Number: 21200810052

Fort Hood

Bell TX 76544

Status: Unutilized

Comments: 3200 sq. ft., presence of asbestos, most recent use—hdqts. bldg., off-site use only

Bldgs. 1938, 04229

Property Number: 21200810053

Fort Hood

Bell TX 76544

Status: Unutilized

Comments: 2736/9000 sq. ft., presence of asbestos, most recent use—admin., off-site use only

Bldgs. 02218, 02220

Property Number: 21200810054

Fort Hood

Bell TX 76544

Status: Unutilized

Comments: 7289/1456 sq. ft., presence of asbestos, most recent use—museum, off-site use only

Bldg. 0350

Property Number: 21200810055

Fort Hood

Bell TX 76544

Status: Unutilized

Comments: 28,290 sq. ft., presence of asbestos, most recent use—veh. maint. shop, off-site use only

Bldg. 04449

Property Number: 21200810056

Fort Hood

Bell TX 76544

Status: Unutilized

Comments: 3822 sq. ft., most recent use—police station, off-site use only

Bldg. 91077

Property Number: 21200810057

Fort Hood

Bell TX 76544

Status: Unutilized

Comments: 3200 sq. ft., presence of asbestos, most recent use—educational facility, off-site use only

Bldg. 1610

Property Number: 21200810059

Fort Bliss

El Paso TX 79916

Status: Excess

Comments: 11056 sq. ft., concrete/stucco, most recent use—gas station/store, off-site use only

Bldg. 1680

Property Number: 21200810060

Fort Bliss

El Paso TX 79916

Status: Excess

Comments: 3690 sq. ft., concrete/stucco, most recent use—restaurant, off-site use only

12 Bldgs.

Property Number: 21200820153

Fort Hood

Ft. Hood TX 76544

Location: 56522, 56523, 56525, 56533, 56534, 56535, 56539, 56542, 56543, 56544, 56545, 56549

Status: Excess

Comments: 600/607 sq. ft., presence of asbestos, most recent use—dining, off-site use only

10 Bldgs.

Property Number: 21200820154

Fort Hood

Ft. Hood TX 76544

Location: 56622, 56623, 56624, 56625, 56629, 56632, 56633, 56634, 56635, 56639

Status: Excess

Comments: 500/507 sq. ft., presence of asbestos, most recent use—dining, off-site use only

6 Bldgs.

Property Number: 21200840070

Fort Hood

Bell TX 76544

Location: 56412, 57023, 57024, 57025, 57009, 57010

Status: Excess

Comments: Presence of asbestos, most recent use—storage, off-site use only

9 Bldgs.

Property Number: 21200840071

Fort Hood

Bell TX 76544

Location: 56529, 56618, 56702, 56710, 56752, 56753, 56754, 56755, 56759

Status: Excess

Comments: Presence of asbestos, most recent use—dining facility, off-site use only

Bldg. 56703

Property Number: 21200840072

Fort Hood

Bell TX 76544

Status: Excess

Comments: 1306 sq. ft., presence of asbestos, most recent use—shower, off-site use only

Bldg. 57005

Property Number: 21200840073

Fort Hood

Bell TX 76544

Status: Excess

Comments: 500 sq. ft., presence of asbestos, most recent use—water supply/treatment, off-site use only

Land

1 acre

Property Number: 21200440075

Fort Sam Houston

San Antonio Co: Bexar TX 78234

Status: Excess

Comments: 1 acre, grassy area

Utah

Building

Bldg. 00001

Property Number: 21200740196

Borgstrom Hall USARC

Ogden UT 84401

Status: Excess

Comments: 16543 sq. ft., most recent use—training center, off-site use only

Bldg. 00002

Property Number: 21200740197

Borgstrom Hall USARC

Ogden UT 84401

Status: Excess

Comments: 3842 sq. ft., most recent use—vehicle maint. shop, off-site use only

Bldg. 00005

Property Number: 21200740198

Borgstrom Hall USARC

Ogden UT 84401

Status: Excess

Comments: 96 sq. ft., most recent use—storage, off-site use only

Virginia

Building

Bldg. 1559

Property Number: 21200130156

Fort Eustis

Ft. Eustis VA 23604

Status: Unutilized

Comments: 2892 sq. ft., most recent use—storage, off-site use only

Fort Story

Property Number: 21200720065

Ft. Story VA 23459

Status: Unutilized

Comments: 525 sq. ft., most recent use—power plant, off-site use only

Bldg. 00942

Property Number: 21200720066

Fort Story

Ft. Story VA 23459

Status: Unutilized

Comments: 84 sq ft., most recent use—shower, off-site use only

Bldg. 01025

Property Number: 21200720070

Fort Story

Ft. Story VA 23459

Status: Unutilized

Comments: 4800 sq. ft., most recent use—admin., off-site use only

Bldg. 01028

Property Number: 21200720071

Fort Story

Ft. Story VA 23459

Status: Unutilized

Comments: 2398 sq. ft., most recent use—admin., off-site use only

Bldg. 01633

Property Number: 21200720076

Fort Eustis

Ft. Eustis VA 23604

Status: Unutilized

Comments: 240 sq. ft., most recent use—storage, off-site use only

Bldg. 02786

Property Number: 21200720084

Fort Eustis

Ft. Eustis VA 23604

Status: Unutilized

Comments: 1596 sq. ft., most recent use—admin., off-site use only

Bldg. P0838

Property Number: 21200830005

Fort Eustis

Ft. Eustis VA 23604

Status: Unutilized

Comments: 576 sq. ft., most recent use—rec shelter, off-site use only

Washington

Building

Bldg. CO909, Fort Lewis

Property Number: 21199630205

Ft. Lewis Co: Pierce WA 98433-9500

Status: Unutilized

Comments: 1984 sq. ft., possible asbestos/lead paint, most recent use—admin., off-site use only

Bldg. 1164, Fort Lewis

Property Number: 21199630213

Ft. Lewis Co: Pierce WA 98433-9500

Status: Unutilized

Comments: 230 sq. ft., possible asbestos/lead paint, most recent use—storehouse, off-site use only

Bldg. 1307, Fort Lewis

Property Number: 21199630216

Ft. Lewis Co: Pierce WA 98433-9500

Status: Unutilized

Comments: 1092 sq. ft., possible asbestos/lead paint, most recent use—storage, off-site use only

Bldg. 1309, Fort Lewis

Property Number: 21199630217

Ft. Lewis Co: Pierce WA 98433-9500

Status: Unutilized

Comments: 1092 sq. ft., possible asbestos/lead paint, most recent use—storage, off-site use only

Bldg. 2167, Fort Lewis

Property Number: 21199630218

Ft. Lewis Co: Pierce WA 98433-9500

Status: Unutilized

Comments: 288 sq. ft., possible asbestos/lead paint, most recent use—warehouse, off-site use only

Bldg. 4078, Fort Lewis

Property Number: 21199630219

Ft. Lewis Co: Pierce WA 98433-9500

Status: Unutilized

Comments: 10200 sq. ft., needs rehab, possible asbestos/lead paint, most recent use—warehouse, off-site use only

Bldg. 9599, Fort Lewis

Property Number: 21199630220

Ft. Lewis Co: Pierce WA 98433-9500

Status: Unutilized

Comments: 12366 sq. ft., possible asbestos/lead paint, most recent use—warehouse, off-site use only

Bldg. A1404, Fort Lewis

Property Number: 21199640570

Ft. Lewis Co: Pierce WA 98433

Status: Unutilized

Comments: 557 sq. ft., needs rehab, most recent use—storage, off-site use only

Bldg. EO347

Property Number: 21199710156

Fort Lewis

Ft. Lewis Co: Pierce WA 98433

Status: Unutilized

Comments: 1800 sq. ft., possible asbestos/lead paint, most recent use—office, off-site use only

Bldg. B1008, Fort Lewis

Property Number: 21199720216

Ft. Lewis Co: Pierce WA 98433

Status: Unutilized

Comments: 7387 sq. ft., 2-story, needs rehab, possible asbestos/lead paint, most recent use -medical clinic, off-site use only

Bldgs. CO509, CO709, CO720

Property Number: 21199810372

Fort Lewis

Ft. Lewis Co: Pierce WA 98433

Status: Unutilized

Comments: 1984 sq. ft., possible asbestos/lead paint, needs rehab, most recent use—storage, offsite use only

Bldg. 5162

Property Number: 21199830419

Fort Lewis

Ft. Lewis Co: Pierce WA 98433

Status: Unutilized

Comments: 2360 sq. ft., needs repair, presence of asbestos/lead paint, most recent use—office, offsite use only

Bldg. 5224

Property Number: 21199830433

Fort Lewis

Ft. Lewis Co: Pierce WA 98433

Status: Unutilized

Comments: 2360 sq. ft., needs repair, presence of asbestos/lead paint, most recent use—educ. fac., off-site use only

Bldg. U001B

Property Number: 21199920237

Fort Lewis

Ft. Lewis Co: Pierce WA 98433

Status: Excess

Comments: 54 sq. ft., needs repair, presence of asbestos/lead paint, most recent use—control tower, off-site use only

Bldg. U001C

Property Number: 21199920238

Fort Lewis

Ft. Lewis Co: Pierce WA 98433

Status: Unutilized

Comments: 960 sq. ft., needs repair, presence of asbestos/lead paint, most recent use—supply, offsite use only

10 Bldgs.

Property Number: 21199920239

Fort Lewis

Ft. Lewis Co: Pierce WA 98433

Location: U002B, U002C, U005C, U015I, U016E, U019C, U022A, U028B, 0091A,

U093C Status: Excess

Comments: 600 sq. ft., needs repair, presence of asbestos/lead paint, most recent use—range house, off-site use only

6 Bldgs.

Fort Lewis

Property Number: 21199920240

Ft. Lewis Co: Pierce WA 98433

Location: U003A, U004B, U006C, U015B, U016B, U019B

Status: Unutilized

Comments: 54 sq. ft., needs repair, presence of asbestos/lead paint, most recent use—control tower, off-site use only

Bldg. U004D

Property Number: 21199920241

Fort Lewis

Ft. Lewis Co: Pierce WA 98433

Status: Unutilized

Comments: 960 sq. ft., needs repair, presence of asbestos/lead paint, most recent use—supply, offsite use only

Bldg. U005A

Property Number: 21199920242

Fort Lewis

Ft. Lewis Co: Pierce WA 98433

Status: Unutilized

Comments: 360 sq. ft., needs repair, presence of asbestos/lead paint, most recent use—control tower, off-site use only

7 Bldgs.

Property Number: 21199920245

Fort Lewis

Ft. Lewis Co: Pierce WA 98433

Location: U014A, U022B, U023A, U043B, U059B, U060A, U101A

Status: Excess

Comments: needs repair, presence of asbestos/lead paint, most recent use—ofc/tower/support, offsite use only

Bldg. U015J

Property Number: 21199920246

Fort Lewis

Ft. Lewis Co: Pierce WA 98433

Status: Excess

Comments: 144 sq. ft., needs repair, presence of asbestos/lead paint, most recent use—tower, offsite use only

Bldg. U018B

Property Number: 21199920247

Fort Lewis

Ft. Lewis Co: Pierce WA 98433

Status: Unutilized

Comments: 121 sq. ft., needs repair, presence of asbestos/lead paint, most recent use—range house, off-site use only

Bldg. U018C

Property Number: 21199920248

Fort Lewis

Ft. Lewis Co: Pierce WA 98433

Status: Unutilized

Comments: 48 sq. ft., needs repair, presence of asbestos/lead paint, off-site use only

Bldg. U024D

Property Number: 21199920250

Fort Lewis

Ft. Lewis Co: Pierce WA 98433

Status: Unutilized

Comments: 120 sq. ft., needs repair, presence of asbestos/lead paint, most recent use—ammo bldg., off-site use only

Bldg. U027A

Property Number: 21199920251

Fort Lewis

Ft. Lewis Co: Pierce WA

Status: Excess

Comments: 64 sq. ft., needs repair, presence of asbestos/lead paint, most recent use—tire house, off-site use only

Bldg. U031A

Property Number: 21199920253

Fort Lewis

Ft. Lewis Co: Pierce WA 98433

Status: Excess

Comments: 3456 sq. ft., needs repair, presence of asbestos/lead paint, most recent use—line shed, off-site use only

Bldg. U031C

Property Number: 21199920254

Fort Lewis

Ft. Lewis Co: Pierce WA 98433

Status: Unutilized

Comments: 32 sq. ft., needs repair, presence of asbestos/lead paint, off-site use only

Bldg. U040D

Property Number: 21199920255

Fort Lewis

Ft. Lewis Co: Pierce WA 98433

Status: Excess

Comments: 800 sq. ft., needs repair, presence of asbestos/lead paint, most recent use—range house, off-site use only

Bldgs. U052C, U052H

Property Number: 21199920256

Fort Lewis

Ft. Lewis Co: Pierce WA 98433

Status: Excess

Comments: various sq. ft., needs repair, presence of asbestos/lead paint, most recent use—range house, off-site use only

Bldgs. U035A, U035B

Property Number: 21199920257

Fort Lewis

Ft. Lewis Co: Pierce WA 98433

Status: Excess

Comments: 192 sq. ft., needs repair, presence of asbestos/lead paint, most recent use—shelter, off-site use only

Bldg. U035C

Property Number: 21199920258

Fort Lewis

Ft. Lewis Co: Pierce WA 98433

Status: Excess

Comments: 242 sq. ft., needs repair, presence of asbestos/lead paint, most recent use—range house, off-site use only

Bldg. U039A

Property Number: 21199920259

Fort Lewis

Ft. Lewis Co: Pierce WA 98433

Status: Excess

Comments: 36 sq. ft., needs repair, presence of asbestos/lead paint, most recent use—control tower, off-site use only

Bldg. U039B

Property Number: 21199920260

Fort Lewis

Ft. Lewis Co: Pierce WA 98433

Status: Excess

Comments: 1600 sq. ft., needs repair, presence of asbestos/lead paint, most recent use—grandstand/bleachers, off-site use only

Bldg. U039C

Property Number: 21199920261

Fort Lewis

Ft. Lewis Co: Pierce WA 98433

Status: Excess

Comments: 600 sq. ft., needs repair, presence of asbestos/lead paint, most recent use—support, off-site use only

Bldg. U043A

Property Number: 21199920262

Fort Lewis

Ft. Lewis Co: Pierce WA 98433

Status: Excess

Comments: 132 sq. ft., needs repair, presence of asbestos/lead paint, most recent use—range house, off-site use only

Bldg. U052A

Property Number: 21199920263

Fort Lewis

Ft. Lewis Co: Pierce WA 98433

Status: Excess

Comments: 69 sq. ft., needs repair, presence of asbestos/lead paint, most recent use—tower, off-site use only

Bldg. U052E

Property Number: 21199920264

Fort Lewis

Ft. Lewis Co: Pierce WA 98433

Status: Excess

Comments: 600 sq. ft., needs repair, presence of asbestos/lead paint, most recent use—storage, off-site use only

Bldg. U052G

Property Number: 21199920265

Fort Lewis

Ft. Lewis Co: Pierce WA 98433

Status: Excess

Comments: 1600 sq. ft., needs repair, presence of asbestos/lead paint, most recent use—shelter, off-site use only

3 Bldgs.

Property Number: 21199920266

Fort Lewis

Ft. Lewis Co: Pierce WA 98433

Location: U058A, U103A, U018A

Status: Excess

Comments: 36 sq. ft., needs repair, presence of asbestos/lead paint, most recent use—control tower, off-site use only

Bldg. U059A

Property Number: 21199920267

Fort Lewis

Ft. Lewis Co: Pierce WA 98433

Status: Excess

Comments: 16 sq. ft., needs repair, presence of asbestos/lead paint, most recent use—tower, off-site use only

Bldg. U093B

Property Number: 21199920268

Fort Lewis

Ft. Lewis Co: Pierce WA 98433

Status: Excess

Comments: 680 sq. ft., needs repair, presence of asbestos/lead paint, most recent use—range house, off-site use only

4 Bldgs.

Property Number: 21199920269

Fort Lewis

Ft. Lewis Co: Pierce WA 98433

Location: U101B, U101C, U507B, U557A

Status: Excess

Comments: 400 sq. ft., needs repair, presence of asbestos/lead paint, off-site use only

Bldg. U110B

Property Number: 21199920272

Fort Lewis

Ft. Lewis Co: Pierce WA 98433

Status: Excess

Comments: 138 sq. ft., needs repair, presence of asbestos/lead paint, most recent use—support, off -site use only

6 Bldgs.

Property Number: 21199920273

Fort Lewis

Ft. Lewis Co: Pierce WA 98433

Location: U111A, U015A, U024E, U052F, U109A, U110A

Status: Excess

Comments: 1000 sq. ft., needs repair, presence of asbestos/lead paint, most recent use—support/shelter/mess, off-site use only

Bldg. U112A

Property Number: 21199920274

Fort Lewis

Ft. Lewis Co: Pierce WA 98433

Status: Excess

Comments: 1600 sq. ft., needs repair, presence of asbestos/lead paint, most recent use—shelter, off-site use only

Bldg. U115A

Property Number: 21199920275

Fort Lewis

Ft. Lewis Co: Pierce WA 98433

Status: Excess

Comments: 36 sq. ft., needs repair, presence of asbestos/lead paint, most recent use—tower, off-site use only

Bldg. U507A

Property Number: 21199920276

Fort Lewis

Ft. Lewis Co: Pierce WA 98433

Status: Excess

Comments: 400 sq. ft., needs repair, presence of asbestos/lead paint, most recent use—support, off-site use only

Bldg. C0120

Property Number: 21199920281

Fort Lewis

Ft. Lewis Co: Pierce WA 98433

Status: Excess

Comments: 384 sq. ft., needs repair, presence of asbestos/lead paint, most recent use—scale house, off-site use only

Bldg. 01205

Property Number: 21199920290

Fort Lewis

Ft. Lewis Co: Pierce WA 98433

Status: Excess

Comments: 87 sq. ft., needs repair, presence of asbestos/lead paint, most recent use—storehouse, off-site use only

Bldg. 01259

Property Number: 21199920291

Fort Lewis

Ft. Lewis Co: Pierce WA 98433

Status: Excess

Comments: 16 sq. ft., needs repair, presence of asbestos/lead paint, most recent use—storage, off-site use only

Bldg. 01266

Property Number: 21199920292

Fort Lewis

Ft. Lewis Co: Pierce WA 98433

Status: Excess

Comments: 45 sq. ft., needs repair, presence of asbestos/lead paint, most recent use—shelter, off-site use only

Bldg. 1445

Property Number: 21199920294

Fort Lewis

Ft. Lewis Co: Pierce WA 98433

Status: Excess

Comments: 144 sq. ft., needs repair, presence of asbestos/lead paint, most recent use—generator bldg., off-site use only

Bldgs. 03091, 03099

Property Number: 21199920296

Fort Lewis

Ft. Lewis Co: Pierce WA 98433

Status: Excess

Comments: Various sq. ft., needs repair, presence of asbestos/lead paint, most recent use—sentry station, off-site use only

Bldg. 4040

Property Number: 21199920298

Fort Lewis

Ft. Lewis Co: Pierce WA 98433

Status: Excess

Comments: 8326 sq. ft., needs repair, presence of asbestos/lead paint, most recent use—shed, off-site use only

Bldgs. 4072, 5104

Property Number: 21199920299

Fort Lewis

Ft. Lewis Co: Pierce WA 98433

Status: Excess

Comments: 24/36 sq. ft., needs repair, presence of asbestos/lead paint, off-site use only

Bldg. 4295

Property Number: 21199920300

Fort Lewis

Ft. Lewis Co: Pierce WA 98433

Status: Excess

Comments: 48 sq. ft., needs repair, presence of asbestos/lead paint, most recent use—storage, off-site use only

Bldg. 6191

Property Number: 21199920303

Fort Lewis

Ft. Lewis Co: Pierce WA 98433

Status: Excess

Comments: 3663 sq. ft., needs repair, presence of asbestos/lead paint, most recent use—exchange branch, off-site use only

Bldgs. 08076, 08080

Property Number: 21199920304

Fort Lewis

Ft. Lewis Co: Pierce WA 98433

Status: Excess

Comments: 3660/412 sq .ft., needs repair, presence of asbestos/lead paint, off-site use only

Bldg. 08093

Property Number: 21199920305

Fort Lewis

Ft. Lewis Co: Pierce WA 98433

Status: Excess

Comments: 289 sq. ft., needs repair, presence of asbestos/lead paint, most recent use—boat storage, off-site use only

Bldg. 8279

Property Number: 21199920306

Fort Lewis

Ft. Lewis Co: Pierce WA 98433

Status: Excess

Comments: 210 sq. ft., needs repair, presence of asbestos/lead paint, most recent use—fuel disp. fac., off-site use only

Bldgs. 8280, 8291

Property Number: 21199920307

Fort Lewis

Ft. Lewis Co: Pierce WA 98433

Status: Excess

Comments: 800/464 sq. ft., needs repair, presence of asbestos/lead paint, most recent use—storage, off-site use only

Bldg. 8956

Property Number: 21199920308

Fort Lewis

Ft. Lewis Co: Pierce WA 98433

Status: Excess

Comments: 100 sq. ft., needs repair, presence of asbestos/lead paint, most recent use—storage, off-site use only

Bldg. 9530

Property Number: 21199920309

Fort Lewis

Ft. Lewis Co: Pierce WA 98433

Status: Excess

Comments: 64 sq. ft., needs repair, presence of asbestos/lead paint, most recent use—sentry station, off-site use only

Bldg. 9574

Property Number: 21199920310

Fort Lewis

Ft. Lewis Co: Pierce WA 98433

Status: Excess

Comments: 6005 sq. ft., needs repair, presence of asbestos/lead paint, most recent use—veh. shop., off-site use only

Bldg. 9596

Property Number: 21199920311

Fort Lewis

Ft. Lewis Co: Pierce WA 98433

Status: Excess

Comments: 36 sq. ft., needs repair, presence of asbestos/lead paint, most recent use—gas station, off-site use only

COE

California

Building

4 Bldgs.

Property Number: 31200840001

OTH-B Radar Site

Tulelake CA 91634

Status: Unutilized

Comments: Most recent use—communications/vehicle maint., off-site use only

Kentucky

Building

Green River Lock #3

Property Number: 31199010022

Rochester Co: Butler KY 42273

Location: SR 70 west from Morgantown, KY., approximately 7 miles to site.

Status: Unutilized

Comments: 980 sq. ft.; 2 story wood frame; two story residence; potential utilities; needs major rehab.

Land

Tract 2625

Property Number: 31199010025

Barkley Lake, Kentucky, and Tennessee

Cadiz Co: Trigg KY 42211

Location: Adjoining the village of Rockcastle.

Status: Excess

Comments: 2.57 acres; rolling and wooded.

Tract 2709-10 and 2710-2

Property Number: 31199010026

Barkley Lake, Kentucky and Tennessee

Cadiz Co: Trigg KY 42211

Location: 2½ miles in a southerly direction from the village of Rockcastle.

Status: Excess

Comments: 2.00 acres; steep and wooded.

Tract 2708-1 and 2709-1

Property Number: 31199010027

Barkley Lake, Kentucky and Tennessee

Cadiz Co: Trigg KY 42211

Location: 2½ miles in a southerly direction from the village of Rockcastle.

Status: Excess

Comments: 3.59 acres; rolling and wooded; no utilities.

Tract 2800

Property Number: 31199010028

Barkley Lake, Kentucky and Tennessee

Cadiz Co: Trigg KY 42211

Location: 4½ miles in a southeasterly direction from the village of Rockcastle.

Status: Excess

Comments: 5.44 acres; steep and wooded.

Tract 2915

Property Number: 31199010029

Barkley Lake, Kentucky and Tennessee

Cadiz Co: Trigg KY 42211

Location: 6½ miles west of Cadiz.

Status: Excess

Comments: 5.76 acres; steep and wooded; no utilities.

Tract 2702

Property Number: 31199010031

Barkley Lake, Kentucky and Tennessee

Cadiz Co: Trigg KY 42211

Location: 1 mile in a southerly direction from the village of Rockcastle.

Status: Excess

Comments: 4.90 acres; wooded; no utilities.

Tract 4318

Property Number: 31199010032

Barkley Lake, Kentucky and Tennessee

Canton Co: Trigg KY 42212

Location: Trigg Co. adjoining the city of Canton, KY. on the waters of Hopson Creek.

Status: Excess

Comments: 8.24 acres; steep and wooded.

Tract 4502

Property Number: 31199010033

Barkley Lake, Kentucky and Tennessee

Canton Co: Trigg KY 42212

Location: 3½ miles in a southerly direction from Canton, KY.

Status: Excess

Comments: 4.26 acres; steep and wooded.

Tract 4611

Property Number: 31199010034

Barkley Lake, Kentucky and Tennessee

Canton Co: Trigg KY 42212

Location: 5 miles south of Canton, KY.

Status: Excess

Comments: 10.51 acres; steep and wooded; no utilities.

Tract 4619

Property Number: 31199010035

Barkley Lake, Kentucky and Tennessee

Canton Co: Trigg KY 42212

Location: 4½ miles south from Canton, KY.

Status: Excess

Comments: 2.02 acres; steep and wooded; no utilities.

Tract 4817

Property Number: 31199010036

Barkley Lake, Kentucky and Tennessee

Canton Co: Trigg KY 42212

Location: 6½ miles south of Canton, KY.

Status: Excess

Comments: 1.75 acres; wooded.

Tract 1217

Property Number: 31199010042

Barkley Lake, Kentucky and Tennessee

Eddyville Co: Lyon KY 42030

Location: On the north side of the Illinois Central Railroad.

Status: Excess

Comments: 5.80 acres; steep and wooded.

Tract 1906

Property Number: 31199010044

Barkley Lake, Kentucky and Tennessee

Eddyville Co: Lyon KY 42030

Location: Approximately 4 miles east of Eddyville, KY.

Status: Excess

Comments: 25.86 acres; rolling steep and partially wooded; no utilities.

Tract 1907

Property Number: 31199010045

Barkley Lake, Kentucky and Tennessee

Eddyville Co: Lyon KY 42038

Location: On the waters of Pilfen Creek, 4 miles east of Eddyville, KY

Status: Excess

Comments: 8.71 acres; rolling steep and wooded; no utilities.

Tract 2001 #1

Property Number: 31199010046

Barkley Lake, Kentucky and Tennessee

Eddyville Co: Lyon KY 42030

Location: Approximately 4½ miles east of Eddyville, KY.

Status: Excess

Comments: 47.42 acres; steep and wooded; no utilities.

Tract 2001 #2

Property Number: 31199010047

Barkley Lake, Kentucky and Tennessee

Eddyville Co: Lyon KY 42030

Location: Approximately 4½ miles east of Eddyville, KY.

Status: Excess

Comments: 8.64 acres; steep and wooded; no utilities.

Tract 2005

Property Number: 31199010048

Barkley Lake, Kentucky and Tennessee

Eddyville Co: Lyon KY 42030

Location: Approximately 5½ miles east of Eddyville, KY.

Status: Excess

Comments: 4.62 acres; steep and wooded; no utilities.

Tract 2307

Property Number: 31199010049

Barkley Lake, Kentucky and Tennessee

Eddyville Co: Lyon KY 42030

Location: Approximately 7½ miles southeasterly of Eddyville, KY.

Status: Excess

Comments: 11.43 acres; steep; rolling and wooded; no utilities.

Tract 2403

Property Number: 31199010050

Barkley Lake, Kentucky and Tennessee

Eddyville Co: Lyon KY 42030

Location: 7 miles southeasterly of Eddyville, KY.

Status: Excess

Comments: 1.56 acres; steep and wooded; no utilities.

Tract 2504

Property Number: 31199010051

Barkley Lake, Kentucky and Tennessee

Eddyville Co: Lyon KY 42030

Location: 9 miles southeasterly of Eddyville, KY.

Status: Excess

Comments: 24.46 acres; steep and wooded; no utilities.

Tract 214

Property Number: 31199010052

Barkley Lake, Kentucky and Tennessee

Grand Rivers Co: Lyon KY 42045

Location: South of the Illinois Central Railroad, 1 mile east of the Cumberland River.

Status: Excess

Comments: 5.5 acres; wooded; no utilities.

Tract 215

Property Number: 31199010053

Barkley Lake, Kentucky and Tennessee

Grand Rivers Co: Lyon KY 42045

Location: 5 miles southwest of Kuttawa

Status: Excess

Comments: 1.40 acres; wooded; no utilities.

Tract 241

Property Number: 31199010054

Barkley Lake, Kentucky and Tennessee

Grand Rivers Co: Lyon KY 42045

Location: Old Henson Ferry Road, 6 miles west of Kuttawa, KY.

Status: Excess

Comments: 1.26 acres; steep and wooded; no utilities.

Tracts 306, 311, 315 and 325

Property Number: 31199010055

Barkley Lake, Kentucky and Tennessee

Grand Rivers Co: Lyon KY 42045

Location: 2.5 miles southwest of Kuttawa, KY. on the waters of Cypress Creek.

Status: Excess

Comments: 38.77 acres; steep and wooded; no utilities.

Tracts 2305, 2306, and 2400-1

Property Number: 31199010056

Barkley Lake, Kentucky and Tennessee

Eddyville Co: Lyon KY 42030

Location: 6 1/2 miles southeasterly of Eddyville, KY.

Status: Excess

Comments: 97.66 acres; steep rolling and wooded; no utilities.

Tracts 5203 and 5204

Property Number: 31199010058

Barkley Lake, Kentucky and Tennessee

Linton Co: Trigg KY 42212

Location: Village of Linton, KY state highway 1254.

Status: Excess

Comments: 0.93 acres; rolling, partially wooded; no utilities.

Tract 5240

Property Number: 31199010059

Barkley Lake, Kentucky and Tennessee

Linton Co: Trigg KY 42212

Location: 1 mile northwest of Linton, KY.

Status: Excess

Comments: 2.26 acres; steep and wooded; no utilities.

Tract 4628

Property Number: 31199011621

Barkley Lake, Kentucky and Tennessee

Canton Co: Trigg KY 42212

Location: 4 1/2 miles south from Canton, KY.

Status: Excess

Comments: 3.71 acres; steep and wooded; subject to utility easements.

Tract 4619-B

Property Number: 31199011622

Barkley Lake, Kentucky and Tennessee

Canton Co: Trigg KY 42212

Location: 4½ miles south from Canton, KY.

Status: Excess

Comments: 1.73 acres; steep and wooded; subject to utility easements.

Tract 2403-B

Property Number: 31199011623

Barkley Lake, Kentucky and Tennessee

Eddyville Co: Lyon KY 42038

Location: 7 miles southeasterly from Eddyville, KY.

Status: Unutilized

Comments: 0.70 acres, wooded; subject to utility easements.

Tract 241-B

Property Number: 31199011624

Barkley Lake, Kentucky and Tennessee

Grand Rivers Co: Lyon KY 42045

Location: South of Old Henson Ferry Road, 6 miles west of Kuttawa, KY.

Status: Excess

Comments: 11.16 acres; steep and wooded; subject to utility easements.

Tracts 212 and 237

Property Number: 31199011625

Barkley Lake, Kentucky and Tennessee

Grand Rivers Co: Lyon KY 42045

Location: Old Henson Ferry Road, 6 miles west of Kuttawa, KY.

Status: Excess

Comments: 2.44 acres; steep and wooded; subject to utility easements.

Tract 215-B

Property Number: 31199011626

Barkley Lake, Kentucky and Tennessee

Grand Rivers Co: Lyon KY 42045

Location: 5 miles southwest of Kuttawa

Status: Excess

Comments: 1.00 acres; wooded; subject to utility easements.

Tract 233

Property Number: 31199011627

Barkley Lake, Kentucky and Tennessee

Grand Rivers Co: Lyon KY 42045

Location: 5 miles southwest of Kuttawa

Status: Excess

Comments: 1.00 acres; wooded; subject to utility easements.

Tract N-819

Property Number: 31199140009

Dale Hollow Lake Project

Illwill Creek, Hwy 90

Hobart Co: Clinton KY 42601

Status: Underutilized

Comments: 91 acres, most recent use—hunting, subject to existing easements

Montana

Building

Bldg. 1

Property Number: 31200040010

Butte Natl Guard

Butte Co: Silverbow MT 59701

Status: Unutilized

Comments: 22799 sq. ft., presence of asbestos, most recent use—cold storage, off-site use only

Bldg. 2

Property Number: 31200040011

Butte Natl Guard

Butte Co: Silverbow MT 59701

Status: Unutilized

Comments: 3292 sq. ft., most recent use—cold storage, off-site use only

Bldg. 3

Property Number: 31200040012

Butte Natl Guard

Butte Co: Silverbow MT 59701

Status: Unutilized

Comments: 964 sq. ft., most recent use—cold storage, off-site use only

Bldg. 4

Property Number: 31200040013

Butte Natl Guard

Butte Co: Silverbow MT 59701

Status: Unutilized

Comments: 72 sq. ft., most recent use—cold storage, off-site use only

Bldg. 5

Property Number: 31200040014

Butte Natl Guard

Butte Co: Silverbow MT 59701

Status: Unutilized

Comments: 1286 sq. ft., most recent use—cold storage, off-site use only

Ohio

Building

Barker Historic House

Property Number: 31199120018

Willow Island Locks and Dam

Newport Co: Washington OH 45768-9801

Location: Located at lock site, downstream of lock and dam structure

Status: Unutilized

Comments: 1600 sq. ft. bldg. with ½ acre of land, 2 story brick frame, needs rehab, on Natl Register of Historic Places, no utilities, off-site use only

2 Bldgs.

Property Number: 31200840002

Delaware Lake

Delaware OH 43143

Status: Unutilized

Comments: 936/288 sq. ft., off-site use only

Land

Pine Creek Lake

Property Number: 31199010923

Section 27

(See County) Co: McCurtain OK

Status: Unutilized

Comments: 3 acres; no utilities; subject to right of way for Oklahoma State Highway 3.

Pennsylvania

Building

Mahoning Creek Reservoir

Property Number: 31199210008

New Bethlehem Co: Armstrong PA 16242

Status: Unutilized

Comments: 1015 sq. ft., 2 story brick residence, off-site use only

Dwelling

Property Number: 31199620008

Lock 6, Allegheny River, 1260 River Rd.

Freeport Co: Armstrong PA 16229-2023

Status: Unutilized

Comments: 2652 sq. ft., 3-story brick house, in close proximity to Lock and Dam, available for interim use for nonresidential purposes

Dwelling

Property Number: 31199710009

Lock 4, Allegheny River

Natrona Co: Allegheny PA 15065-2609

Status: Unutilized

Comments: 1664 sq. ft., 2-story brick residence, needs repair, off-site use only

Dwelling #1

Property Number: 31199740002

Crooked Creek Lake

Ford City Co: Armstrong PA 16226-8815

Status: Excess

Comments: 2030 sq. ft., most recent use—residential, good condition, off-site use only

Dwelling #2

Property Number: 31199740003

Crooked Creek Lake

Ford City Co: Armstrong PA 16226-8815

Status: Excess

Comments: 3045 sq. ft., most recent use—residential, good condition, off-site use only

Govt Dwelling

Property Number: 31199740005

East Branch Lake

Wilcox Co: Elk PA 15870-9709

Status: Underutilized

Comments: Approx. 5299 sq. ft., 1-story, most recent use—residence, off-site use only

Dwelling #1

Property Number: 31199740006

Loyalhanna Lake

Saltsburg Co: Westmoreland PA 15681-9302

Status: Excess

Comments: 1996 sq. ft., most recent use—residential, good condition, off-site use only

Dwelling #2

Property Number: 31199740007

Loyalhanna Lake

Saltsburg Co: Westmoreland PA 15681-9302

Status: Excess

Comments: 1996 sq. ft., most recent use—residential, good condition, off-site use only

Dwelling #1

Property Number: 31199740008

Woodcock Creek Lake

Saegertown Co: Crawford PA 16433-0629

Status: Excess

Comments: 2106 sq. ft., most recent use—residential, good condition, off-site use only

Dwelling #2

Property Number: 31199740009

Lock 6, 1260 River Road

Freeport Co: Armstrong PA 16229-2023

Status: Excess

Comments: 2652 sq. ft., most recent use—residential, good condition, off-site use only

Residence A

Property Number: 31200410007

2045 Pohopoco Drive

Lehighton Co: Carbon PA 18235

Status: Unutilized

Comments: 1200 sq. ft., presence of asbestos, off-site use only

Land

Mahoning Creek Lake

Property Number: 31199010018

New Bethlehem Co: Armstrong PA 16242-9603

Location: Route 28 north to Belknap, Road #4

Status: Excess

Comments: 2.58 acres; steep and densely wooded

Tracts 610, 611, 612

Property Number: 31199011001

Shenango River Lake

Sharpsville Co: Mercer PA 16150

Location: I-79 North, I-80 West, Exit Sharon. R18 North 4 miles, left on R518, right on Mercer Avenue.

Status: Excess

Comments: 24.09 acres; subject to flowage easement

Tracts L24, L26

Property Number: 31199011011

Crooked Creek Lake

null Co: Armstrong PA 03051

Location: Left bank—55 miles downstream of dam.

Status: Unutilized

Comments: 7.59 acres; potential for utilities.

Portion of Tract L-21A

Property Number: 31199430012

Crooked Creek Lake, LR 03051

Ford City Co: Armstrong PA 16226

Status: Unutilized

Comments: Approximately 1.72 acres of undeveloped land, subject to gas rights

Tennessee

Land

Tract 6827

Property Number: 31199010927

Barkley Lake

Dover Co: Stewart TN 37058

Location: 2½ miles west of Dover, TN.

Status: Excess

Comments: .57 acres; subject to existing easements.

Tracts 6002-2 and 6010

Property Number: 31199010928

Barkley Lake

Dover Co: Stewart TN 37058

Location: 3½ miles south of village of Tabaccoport.

Status: Excess

Comments: 100.86 acres; subject to existing easements.

Tract 11516

Property Number: 31199010929

Barkley Lake

Ashland City Co: Dickson TN 37015

Location: ½ mile downstream from Cheatham Dam

Status: Excess

Comments: 26.25 acres; subject to existing easements.

Tract 2319

Property Number: 31199010930

J. Percy Priest Dam and Reservoir

Murfreesboro Co: Rutherford TN 37130

Location: West of Buckeye Bottom Road

Status: Excess

Comments: 14.48 acres; subject to existing easements.

Tract 2227

Property Number: 31199010931

J. Percy Priest Dam and Reservoir

Murfreesboro Co: Rutherford TN 37130

Location: Old Jefferson Pike

Status: Excess

Comments: 2.27 acres; subject to existing easements.

Tract 2107

Property Number: 31199010932

J. Percy Priest Dam and Reservoir

Murfreesboro Co: Rutherford TN 37130

Location: Across Fall Creek near Fall Creek camping area.

Status: Excess

Comments: 14.85 acres; subject to existing easements.

Tracts 2601,2602,2603,2604

Property Number: 31199010933

Cordell Hull Lake and Dam Project

Doe Row Creek

Gainesboro Co: Jackson TN 38562

Location: TN Highway 56

Status: Unutilized

Comments: 11 acres; subject to existing easements.

Tract 1911

Property Number: 31199010934

J. Percy Priest Dam and Reservoir

Murfreesboro Co: Rutherford TN 37130

Location: East of Lamar Road

Status: Excess

Comments: 6.92 acres; subject to existing easements.

Tract 7206

Property Number: 31199010936

Barkley Lake

Dover Co: Stewart TN 37058

Location: 2½ miles SE of Dover, TN.

Status: Excess

Comments: 10.15 acres; subject to existing easements.

Tracts 8813, 8814

Property Number: 31199010937

Barkley Lake

Cumberland Co: Stewart TN 37050

Location: 1½ miles East of Cumberland City.

Status: Excess

Comments: 96 acres; subject to existing easements.

Tract 8911

Property Number: 31199010938

Barkley Lake

Cumberland City Co: Montgomery TN 37050

Location: 4 miles east of Cumberland City.

Status: Excess

Comments: 7.7 acres; subject to existing easements.

Tract 11503

Property Number: 31199010939

Barkley Lake

Ashland City Co: Cheatham TN 37015

Location: 2 miles downstream from Cheatham Dam.

Status: Excess

Comments: 1.1 acres; subject to existing easements.

Tracts 11523, 11524

Property Number: 31199010940

Barkley Lake

Ashland City Co: Cheatham TN 37015

Location: 2½ miles downstream from Cheatham Dam.

Status: Excess

Comments: 19.5 acres; subject to existing easements.

Tract 6410

Property Number: 31199010941

Barkley Lake

Bumpus Mills Co: Stewart TN 37028

Location: 4½ miles SW. of Bumpus Mills.

Status: Excess

Comments: 17 acres; subject to existing easements.

Tract 9707

Property Number: 31199010943

Barkley Lake

Palmyra Co: Montgomery TN 37142

Location: 3 miles NE of Palmyer, TN. Highway 149

Status: Excess

Comments: 6.6 acres; subject to existing easements.

Tract 6949

Property Number: 31199010944

Barkley Lake

Dover Co: Stewart TN 37058

Location:

1½ miles SE of Dover, TN.

Status: Excess

Comments: 29.67 acres; subject to existing easements.

Tracts 6005 and 6017

Property Number: 31199011173

Barkley Lake

Dover Co: Stewart TN 37058

Location: 3 miles south of Village of Tobaccoport.

Status: Excess

Comments: 5 acres; subject to existing easements.

Tracts K-1191, K-1135

Property Number: 31199130007

Old Hickory Lock and Dam

Hartsville Co: Trousdale TN 37074

Status: Underutilized

Comments: 54 acres, (portion in floodway), most recent use—recreation.

Tract A-102

Property Number: 31199140006

Dale Hollow Lake Project

Canoe Ridge, State Hwy 52

Celina Co: Clay TN 38551

Status: Underutilized

Comments: 351 acres, most recent use—hunting, subject to existing easements.

Tract A-120

Property Number: 31199140007

Dale Hollow Lake Project

Swann Ridge, State Hwy No. 53

Celina Co: Clay TN 38551

Status: Underutilized

Comments: 883 acres, most recent use—hunting, subject to existing easements.

Tract D-185

Property Number: 31199140010

Dale Hollow Lake Project

Ashburn Creek, Hwy No. 53

Livingston Co: Clay TN 38570

Status: Underutilized

Comments: 97 acres, most recent use—hunting, subject to existing easements.

West Virginia

Building

Bldgs. 1, 2

Property Number: 31200840003

Bluestone Lake & Dam

Hinton WV 25951

Status: Unutilized

Comments: 1564/1625 sq. ft., presence of asbestos/lead paint, most recent use—residence, off-site use only.

GSA

California

Building

Boyle Heights SSA Bldg.

Property Number: 54200840010

N. Breed St.

Los Angeles CA 90033

Status: Surplus

Comments: 10,815 sq. ft., requires seismic strengthening to satisfy substantial life-safety criteria; expected lateral loads in structure rather high.

GSA Number: 9-G-CA-1676

Land

Tract 1607

Property Number: 54200840011

Lake Sonoma

Rockpile Rd.

Geyserville CA 85746

Status: Surplus

Comments: approx. 139 acres, northern portion not accessible because of steep slopes, rare manzanita species.

GSA Number: 9-GR-CA-1504

Michigan

Land

Former Elf Comm. Facility

Property Number: 54200840012

3041 County Road

Republic MI 49879

Status: Excess

Comments: 6.69 acres w/transmitter bldg, support bldg., gatehouse, endangered species.

GSA Number: 1-N-MI-0827

Missouri

Building

Federal Bldg/Courthouse

Property Number: 54200840013

339 Broadway St.

Cape Girardeau MO 63701

Status: Excess

Comments: 47,867 sq. ft., possible asbestos/lead paint, needs maintenance & seismic upgrades, 30% occupied—tenants to relocate within 2 yrs

GSA Number: 7-G-MO-0673

Interior

Arizona

Building

Bldg. 149

Property Number: 61200830001

Desert View

Grand Canyon AZ 86023

Status: Excess

Comments: 791 sq. ft., needs rehab, most recent use—residential, off-site use only

Maine

Building

Bldg. 1010

Property Number: 61200830007

Schoodic Ed & Rsh Ctr

Acadia National Park

Hancock ME

Status: Unutilized

Comments: 14200 sq.ft, presence of asbestos/lead paint, most recent use—office, off-site use only

Bldg. 1046

Property Number: 61200830008

Schoodic Ed & Rsh Ctr

Acadia National Park

Hancock ME

Status: Unutilized

Comments: 178 sq. ft., presence of lead paint, most recent use—storage, off-site use only

Bldg. 1172

Property Number: 61200830009

Schoodic Ed & Rsh Ctr

Acadia National Park

Hancock ME

Status: Unutilized

Comments: 1200 sq. ft., presence of asbestos/lead paint, most recent use—shed, off-site use only

Bldg. 1210

Property Number: 61200830011

Schoodic Ed & Rsh Ctr

Acadia National Park

Hancock ME

Status: Unutilized

Comments: 108 sq. ft., most recent use—shed, off-site use only

Bldg. 1213

Property Number: 61200830012

Schoodic Ed & Rsh Ctr

Acadia National Park

Hancock ME

Status: Unutilized

Comments: 544 sq. ft., most recent use—maintenance, off-site use only

Bldgs. 1224, 1232

Property Number: 61200830013

Schoodic Ed & Rsh Ctr

Acadia National Park

Hancock ME

Status: Unutilized

Comments: 543/768 sq. ft., most recent use—storage, off-site use only

Pennsylvania

Building

Fmr Visitor Ctr/Cyclorama Bldg

Property Number: 61200830002

National Military Park

Gettysburg PA 17325

Status: Excess

Comments: needs major rehab, off-site use only

Navy

Washington

Land

6798 sq. ft. land

Property Number: 77200830024

Navy Region Northwest

Bremerton WA

Status: Unutilized

Comments: vacant land

VA

Alabama

Land

VA Medical Center

Property Number: 97199010053

VAMC

Tuskegee Co: Macon AL 36083

Status: Underutilized

Comments: 40 acres, buffer to VA Medical Center, potential utilities, undeveloped.

California

Land

Land

Property Number: 97199240001

4150 Clement Street

San Francisco Co: San Francisco CA 94121

Status: Underutilized

Comments: 4 acres; landslide area.

Colorado

Building

Bldg. 2

Property Number: 97200430001

VAMC

2121 North Avenue

Grand Junction Co: Mesa CO 81501

Status: Unutilized

Comments: 3298 sq. ft., needs major rehab, presence of asbestos/lead paint

Bldg. 3

Property Number: 97200430002

VAMC

2121 North Avenue

Grand Junction Co: Mesa CO 81501

Status: Unutilized

Comments: 7275 sq. ft., needs major rehab, presence of asbestos/lead paint

Indiana

Building

Bldg. 105, VAMC

Property Number: 97199230006

East 38th Street

Marion Co: Grant IN 46952

Status: Excess

Comments: 310 sq. ft., 1 story stone structure, no sanitary or heating facilities, Natl Register of Historic Places

Bldg. 10

Property Number: 97199810002

VA Northern Indiana Health Care System

Marion Campus, 1700 East 38th Street

Marion Co: Grant IN 46953

Status: Underutilized

Comments: 16,361 sq. ft., presence of asbestos, most recent use—psychiatric ward, National Register of Historic Places

Bldg. 11

Property Number: 97199810003

VA Northern Indiana Health Care System

Marion Campus, 1700 East 38th Street

Marion Co: Grant IN 46953

Status: Underutilized

Comments: 16,361 sq. ft., presence of asbestos, most recent use—psychiatric ward, National Register of Historic Places

Bldg. 18

Property Number: 97199810004

VA Northern Indiana Health Care System

Marion Campus, 1700 East 38th Street

Marion Co: Grant IN 46953

Status: Underutilized

Comments: 13,802 sq. ft., presence of asbestos, most recent use—psychiatric ward, National Register of Historic Places

Bldg. 25

Property Number: 97199810005

VA Northern Indiana Health Care System

Marion Campus, 1700 East 38th Street

Marion Co: Grant IN 46953

Status: Unutilized

Comments: 32,892 sq. ft., presence of asbestos, most recent use—psychiatric ward, National Register of Historic Places

Bldg. 1

Property Number: 97200310001

N. Indiana Health Care System

Marion Co: Grant IN 46952

Status: Unutilized

Comments: 20,287 sq. ft., needs extensive repairs, presence of asbestos, most recent use—patient ward

Bldg. 3

Property Number: 97200310002

N. Indiana Health Care System

Marion Co: Grant IN 46952

Status: Unutilized

Comments: 20,550 sq. ft., needs extensive repairs, presence of asbestos, most recent use—patient ward

Bldg. 4

Property Number: 97200310003

N. Indiana Health Care System

Marion Co: Grant IN 46952

Status: Unutilized

Comments: 20,550 sq. ft., needs extensive repairs, presence of asbestos, most recent use—patient ward

Bldg. 13

Property Number: 97200310004

N. Indiana Health Care System

Marion Co: Grant IN 46952

Status: Unutilized

Comments: 8971 sq. ft., needs extensive repairs, presence of asbestos, most recent use—office

Bldg. 42

Property Number: 97200310007

N. Indiana Health Care System

Marion Co: Grant IN 46952

Status: Unutilized

Comments: 5025 sq. ft., needs extensive repairs, presence of asbestos, most recent use—office

Bldg. 60

Property Number: 97200310008

N. Indiana Health Care System

Marion Co: Grant IN 46952

Status: Unutilized

Comments: 18,126 sq. ft., needs extensive repairs, presence of asbestos, most recent use—office

Bldg. 122

Property Number: 97200310009

N. Indiana Health Care System

Marion Co: Grant IN 46952

Status: Unutilized

Comments: 37,135 sq. ft., needs extensive repairs, presence of asbestos, most recent use—dining hall/kitchen

Iowa

Land

40.66 acres

Property Number: 97199740002

VA Medical Center 1515 West Pleasant St.

Knoxville Co: Marion IA 50138

Status: Unutilized

Comments: golf course, easement requirements

New York

Building

Bldg. 3

Property Number: 97200520001

VA Medical Center

Batavia Co: Genesee NY 14020

Status: Unutilized

Comments: 5840 sq. ft., needs rehab, presence of asbestos, most recent use—offices, eligible for Natl Register of Historic Places

Texas

Land

Land

Property Number: 97199010079

Olin E. Teague Veterans Center

1901 South 1st Street

Temple Co: Bell TX 76504

Status: Underutilized

Comments: 13 acres, portion formerly landfill, portion near flammable materials, railroad crosses property, potential utilities.

Wisconsin

Building

Bldg. 8

Property Number: 97199010056

VA Medical Center

County Highway E

Tomah Co: Monroe WI 54660

Status: Underutilized

Comments: 2200 sq. ft., 2 story wood frame, possible asbestos, potential utilities, structural deficiencies, needs rehab.

Land

VA Medical Center

Property Number: 97199010054

County Highway E

Tomah Co: Monroe WI 54660

Status: Underutilized

Comments: 12.4 acres, serves as buffer between center and private property, no utilities.

Total Suitable and Available For Year 2008 = 786

01/29/2009 TITLE V PROPERTIES REPORTED IN YEAR 2008 WHICH ARE SUITABLE AND UNAVAILABLE

Air Force

South Dakota

Land

Tract 133

Property Number: 18200310004

Ellsworth AFB

Box Elder Co: Pennington SD 57706

Status: Unutilized

Reason: Special Legislation

Tract 67

Property Number: 18200310005

Ellsworth AFB

Box Elder Co: Pennington SD 57706

Status: Unutilized

Reason: mission purpose

Washington

Building

22 Bldgs./Geiger Heights

Property Number: 18200420001

Fairchild AFB

Spokane WA 99224

Status: Unutilized

Reason: mission effort

Bldg. 404/Geiger Heights

Property Number: 18200420002

Fairchild AFB

Spokane WA 99224

Status: Unutilized

Reason: mission effort

11 Bldgs./Geiger Heights

Property Number: 18200420003

Fairchild AFB

Spokane WA 99224

Status: Unutilized

Reason: mission effort

Bldg. 297/Geiger Heights

Property Number: 18200420004

Fairchild AFB

Spokane WA 99224

Status: Unutilized

Reason: mission effort

9 Bldgs./Geiger Heights

Property Number: 18200420005

Fairchild AFB

Spokane WA 99224

Status: Unutilized

Reason: mission effort

22 Bldgs./Geiger Heights

Property Number: 18200420006

Fairchild AFB

Spokane WA 99224

Status: Unutilized

Reason: mission effort

51 Bldgs./Geiger Heights

Property Number: 18200420007

Fairchild AFB

Spokane WA 99224

Status: Unutilized

Reason: mission effort

Bldg. 402/Geiger Heights

Property Number: 18200420008

Fairchild AFB

Spokane WA 99224

Status: Unutilized

Reason: mission effort

5 Bldgs./Geiger Heights

Property Number: 18200420009

Fairchild AFB 222, 224, 271, 295, 260

Spokane WA 99224

Status: Unutilized

Reason: mission effort

5 Bldgs./Geiger Heights

Property Number: 18200420010

Fairchild AFB 102, 183, 118, 136, 113

Spokane WA 99224

Status: Unutilized

Reason: mission effort

Army

Alabama

Building

Bldg. 01433

Property Number: 21200220098

Fort Rucker

Ft. Rucker Co: Dale AL 36362

Status: Excess

Reason: being utilized

Bldg. 30105

Property Number: 21200510052

Fort Rucker

Ft. Rucker Co: Dale AL 36362

Status: Excess

Reason: occupied

Bldg. 40115

Property Number: 21200510053

Fort Rucker

Ft. Rucker Co: Dale AL 36362

Status: Excess

Reason: occupied

Bldg. 25303

Property Number: 21200520074

Fort Rucker

Dale AL 36362

Status: Excess

Reason: occupied

Bldg. 25304

Property Number: 21200520075

Fort Rucker

Dale AL 36362

Status: Excess

Reason: occupied

Arizona

Building

Bldg. 22529

Property Number: 21200520077

Fort Huachuca

Cochise AZ 85613-7010

Status: Excess

Reason: occupied

Bldg. 22541

Property Number: 21200520078

Fort Huachuca

Cochise AZ 85613-7010

Status: Excess

Reason: occupied

Bldg. 30020

Property Number: 21200520079

Fort Huachuca

Cochise AZ 85613-7010

Status: Excess

Reason: occupied

Bldg. 30021

Property Number: 21200520080

Fort Huachuca

Cochise AZ 85613-7010

Status: Excess

Reason: occupied

Bldg. 22040

Property Number: 21200540076

Fort Huachuca

Cochise AZ 85613

Status: Excess

Reason: occupied

Bldg. 22540

Property Number: 21200620067

Fort Huachuca

Cochise AZ 85613-7010

Status: Excess

Reason: occupied

Colorado

Building

Bldg. S6264

Property Number: 21200340084

Fort Carson

Ft. Carson Co: El Paso CO 80913

Status: Unutilized

Reason: occupied

Bldg. S6285

Property Number: 21200420176

Fort Carson

Ft. Carson Co: El Paso CO 80913

Status: Unutilized

Reason: in use

Bldg. S6287

Property Number: 21200420177

Fort Carson

Ft. Carson Co: El Paso CO 80913

Status: Unutilized

Reason: in use

Bldg. 06225

Property Number: 21200520084

Fort Carson

El Paso CO 80913-4001

Status: Unutilized

Reason: occupied

Georgia

Building

Bldg. T201

Property Number: 21200420002

Hunter Army Airfield

Garrison Co: Chatham GA 31409

Status: Excess

Reason: In use

Bldg. T234

Property Number: 21200420008

Hunter Army Airfield

Garrison Co: Chatham GA 31409

Status: Excess

Reason: In use

Bldg. T702

Property Number: 21200420010

Hunter Army Airfield

Garrison Co: Chatham GA 31409

Status: Excess

Reason: In use

Bldg. T703

Property Number: 21200420011

Hunter Army Airfield

Garrison Co: Chatham GA 31409

Status: Excess

Reason: In use

Bldg. T704

Property Number: 21200420012

Hunter Army Airfield

Garrison Co: Chatham GA 31409

Status: Excess

Reason: In use

Bldg. P813

Property Number: 21200420013

Hunter Army Airfield

Garrison Co: Chatham GA 31409

Status: Excess

Reason: In use

Bldgs. S843, S844, S845

Property Number: 21200420014

Hunter Army Airfield

Garrison Co: Chatham GA 31409

Status: Excess

Reason: In use

Bldg. P925

Property Number: 21200420015

Hunter Army Airfield

Garrison Co: Chatham GA 31409

Status: Excess

Reason: In use

Bldg. P1277

Property Number: 21200420024

Hunter Army Airfield

Garrison Co: Chatham GA 31409

Status: Excess

Reason: In use

Bldg. T1412

Property Number: 21200420025

Hunter Army Airfield

Garrison Co: Chatham GA 31409

Status: Excess

Reason: In use

Bldg. 8658

Property Number: 21200420029

Hunter Army Airfield

Garrison Co: Chatham GA 31409

Status: Excess

Reason: In use

Bldg. 8659

Property Number: 21200420030

Hunter Army Airfield

Garrison Co: Chatham GA 31409

Status: Excess

Reason: In use

Bldgs. 8675, 8676

Property Number: 21200420031

Hunter Army Airfield

Garrison Co: Chatham GA 31409

Status: Excess

Reason: In use

Bldg. 5978

Property Number: 21200420038

Fort Benning

Ft. Benning Co: Chattachoochee GA 31905

Status: Excess

Reason: In use

Bldg. 5993

Property Number: 21200420041

Fort Benning

Ft. Benning Co: Chattachoochee GA 31905

Status: Excess

Reason: In use

Bldg. 5994

Property Number: 21200420042

Fort Benning

Ft. Benning Co: Chattachoochee GA 31905

Status: Excess

Reason: In use

Bldg. 5995

Property Number: 21200420043

Fort Benning

Ft. Benning Co: Chattachoochee GA 31905

Status: Excess

Reason: In use

Bldg. T01

Property Number: 21200420181

Fort Stewart

Ft. Stewart Co: Liberty GA 31314

Status: Excess

Reason: In use

Bldg. T04

Property Number: 21200420182

Fort Stewart

Ft. Stewart Co: Liberty GA 31314

Status: Excess

Reason: In use

Bldg. T05

Property Number: 21200420183

Fort Stewart

Ft. Stewart Co: Liberty GA 31314

Status: Excess

Reason: In use

Bldg. T06

Property Number: 21200420184

Fort Stewart

Ft. Stewart Co: Liberty GA 31314

Status: Excess

Reason: In use

Bldg. T55

Property Number: 21200420187

Fort Stewart

Ft. Stewart Co: Liberty GA 31314

Status: Excess

Reason: In use

Bldg. T85

Property Number: 21200420188

Fort Stewart

Ft. Stewart Co: Liberty GA 31314

Status: Excess

Reason: In use

Bldg. T131

Property Number: 21200420189

Fort Stewart

Ft. Stewart Co: Liberty GA 31314

Status: Excess

Reason: In use

Bldg. T132

Property Number: 21200420190

Fort Stewart

Ft. Stewart Co: Liberty GA 31314

Status: Excess

Reason: In use

Bldg. T157

Property Number: 21200420191

Fort Stewart

Ft. Stewart Co: Liberty GA 31314

Status: Excess

Reason: In use

Bldg. 01002

Property Number: 21200420197

Fort Stewart

Ft. Stewart Co: Liberty GA 31314

Status: Excess

Reason: In use

Bldg. 01003

Property Number: 21200420198

Fort Stewart

Ft. Stewart Co: Liberty GA 31314

Status: Excess

Reason: In use

Bldg. 19101

Property Number: 21200420215

Fort Stewart

Ft. Stewart Co: Liberty GA 31314

Status: Excess

Reason: In use

Bldg. 19102

Property Number: 21200420216

Fort Stewart

Ft. Stewart Co: Liberty GA 31314

Status: Excess

Reason: In use

Bldg. T19111

Property Number: 21200420217

Fort Stewart

Ft. Stewart Co: Liberty GA 31314

Status: Excess

Reason: In use

Bldg. 19112

Property Number: 21200420218

Fort Stewart

Ft. Stewart Co: Liberty GA 31314

Status: Excess

Reason: In use

Bldg. 19113

Property Number: 21200420219

Fort Stewart

Ft. Stewart Co: Liberty GA 31314

Status: Excess

Reason: In use

Bldg. T19201

Property Number: 21200420220

Fort Stewart

Ft. Stewart Co: Liberty GA 31314

Status: Excess

Reason: In use

Bldg. 19202

Property Number: 21200420221

Fort Stewart

Ft. Stewart Co: Liberty GA 31314

Status: Excess

Reason: In use

Bldgs. 19204 thru 19207

Property Number: 21200420222

Fort Stewart

Ft. Stewart Co: Liberty GA 31314

Status: Excess

Reason: In use

Bldgs. 19208 thru 19211

Property Number: 21200420223

Fort Stewart

Ft. Stewart Co: Liberty GA 31314

Status: Excess

Reason: In use

Bldg. 19212

Property Number: 21200420224

Fort Stewart

Ft. Stewart Co: Liberty GA 31314

Status: Excess

Reason: In use

Bldg. 19213

Property Number: 21200420225

Fort Stewart

Ft. Stewart Co: Liberty GA 31314

Status: Excess

Reason: In use

Bldg. 19214

Property Number: 21200420226

Fort Stewart

Ft. Stewart Co: Liberty GA 31314

Status: Excess

Reason: In use

Bldg. 19215

Property Number: 21200420227

Fort Stewart

Ft. Stewart Co: Liberty GA 31314

Status: Excess

Reason: In use

Bldg. 19216

Property Number: 21200420228

Fort Stewart

Ft. Stewart Co: Liberty GA 31314

Status: Excess

Reason: In use

Bldg. 19217

Property Number: 21200420229

Fort Stewart

Ft. Stewart Co: Liberty GA 31314

Status: Excess

Reason: In use

Bldg. 19218

Property Number: 21200420230

Fort Stewart

Ft. Stewart Co: Liberty GA 31314

Status: Excess

Reason: In use

Bldgs. 19219, 19220

Property Number: 21200420231

Fort Stewart

Ft. Stewart Co: Liberty GA 31314

Status: Excess

Reason: In use

Bldg. 19223

Property Number: 21200420232

Fort Stewart

Ft. Stewart Co: Liberty GA 31314

Status: Excess

Reason: In use

Bldg. 19225

Property Number: 21200420233

Fort Stewart

Ft. Stewart Co: Liberty GA 31314

Status: Excess

Reason: In use

Bldg. 19226

Property Number: 21200420234

Fort Stewart

Ft. Stewart Co: Liberty GA 31314

Status: Excess

Reason: In use

Bldg. T19228

Property Number: 21200420235

Fort Stewart

Ft. Stewart Co: Liberty GA 31314

Status: Excess

Reason: In use

Bldg. 19229

Property Number: 21200420236

Fort Stewart

Ft. Stewart Co: Liberty GA 31314

Status: Excess

Reason: In use

Bldg. 19232

Property Number: 21200420237

Fort Stewart

Ft. Stewart Co: Liberty GA 31314

Status: Excess

Reason: In use

Bldg. 19233

Property Number: 21200420238

Fort Stewart

Ft. Stewart Co: Liberty GA 31314

Status: Excess

Reason: In use

Bldg. 19236

Property Number: 21200420239

Fort Stewart

Ft. Stewart Co: Liberty GA 31314

Status: Excess

Reason: In use

Bldg. 19238

Property Number: 21200420240

Fort Stewart

Ft. Stewart Co: Liberty GA 31314

Status: Excess

Reason: In use

Bldg. 01674

Property Number: 21200510056

Fort Benning

Ft. Benning Co: Chattachoochee GA 31905

Status: Unutilized

Reason: Occupied

Bldg. 01675

Property Number: 21200510057

Fort Benning

Ft. Benning Co: Chattachoochee GA 31905

Status: Unutilized

Reason: Occupied

Bldg. 01676

Property Number: 21200510058

Fort Benning

Ft. Benning Co: Chattachoochee GA 31905

Status: Unutilized

Reason: Occupied

Bldg. 01677

Property Number: 21200510059

Fort Benning

Ft. Benning GA 31905

Status: Unutilized

Reason: Occupied

Bldg. 01678

Property Number: 21200510060

Fort Benning

Ft. Benning Co: Chattachoochee GA 31905

Status: Unutilized

Reason: Occupied

Bldg. 00051

Property Number: 21200520087

Fort Stewart

Liberty GA 31314

Status: Excess

Reason: Occupied

Bldg. 00052

Property Number: 21200520088

Fort Stewart

Liberty GA 31314

Status: Excess

Reason: Occupied

Bldg. 00053

Property Number: 21200520089

Fort Stewart

Liberty GA 31314

Status: Excess

Reason: Occupied

Bldg. 00054

Property Number: 21200520090

Fort Stewart

Liberty GA 31314

Status: Excess

Reason: Occupied

Bldg. 01243

Property Number: 21200610040

Hunter Army Airfield

Savannah Co: Chatham GA 31409

Status: Excess

Reason: Occupied

Bldg. 01244

Property Number: 21200610041

Hunter Army airfield

Savannah Co: Chatham GA 31409

Status: Excess

Reason: Occupied

Bldg. 01318

Property Number: 21200610042

Hunter Army Airfield

Savannah Co: Chatham GA 31409

Status: Excess

Reason: Occupied

Bldg. 00612

Property Number: 21200610043

Fort Stewart

Liberty GA 31314

Status: Excess

Reason: Occupied

Bldg. 00614

Property Number: 21200610044

Fort Stewart

Liberty GA 31314

Status: Excess

Reason: Occupied

Bldg. 00618

Property Number: 21200610045

Fort Stewart

Liberty GA 31314

Status: Excess

Reason: Occupied

Bldg. 00628

Property Number: 21200610046

Fort Stewart

Liberty GA 31314

Status: Excess

Reason: Occupied

Bldg. 01079

Property Number: 21200610047

Fort Stewart

Liberty GA 31314

Status: Excess

Reason: Occupied

Bldg. 07901

Property Number: 21200610049

Fort Stewart

Liberty GA 31314

Status: Excess

Reason: Occupied

Bldg. 08031

Property Number: 21200610050

Fort Stewart

Liberty GA 31314

Status: Excess

Reason: Occupied

Bldg. 08081

Property Number: 21200610052

Fort Stewart

Liberty GA 31314

Status: Excess

Reason: Occupied

Bldg. 08252

Property Number: 21200610053

Fort Stewart

Liberty GA 31314

Status: Excess

Reason: Occupied

Kentucky

Building

Bldg. 06894

Property Number: 21200630070

Fort Campbell

Christian KY 42223

Status: Unutilized

Reason: Mission use

Bldg. 06895

Property Number: 21200630071

Fort Campbell

Christian KY 42223

Status: Unutilized

Reason: Mission use

Louisiana

Building

Bldg. T401

Property Number: 21200540084

Fort Polk

Ft. Polk LA 71459

Status: Unutilized

Reason: Occupied

Bldgs. T406, T407, T411

Property Number: 21200540085

Fort Polk

Ft. Polk LA 71459

Status: Unutilized

Reason: Occupied

Bldg. T412

Property Number: 21200540086

Fort Polk

Ft. Polk LA 71459

Status: Unutilized

Reason: Occupied

Bldgs. T414, T421

Property Number: 21200540087

Fort Polk

Ft. Polk LA 71459

Status: Unutilized

Reason: Occupied

Maryland

Building

Bldg. 8608

Property Number: 21200410099

Fort George G. Meade

Ft. Meade MD 20755-5115

Status: Unutilized

Reason: Occupied

Bldg. 8612

Property Number: 21200410101

Fort George G. Meade

Ft. Meade MD 20755-5115

Status: Unutilized

Reason: Occupied

Bldg. 0001A

Property Number: 21200520114

Federal Support Center

Olney Co: Montgomery MD 20882

Status: Unutilized

Reason: Occupied

Bldg. 0001C

Property Number: 21200520115

Federal Support Center

Olney Co: Montgomery MD 20882

Status: Unutilized

Reason: Occupied

Bldgs. 00032, 00H14, 00H24

Property Number: 21200520116

Federal Support Center

Olney Co: Montgomery MD 20882

Status: Unutilized

Reason: Occupied

Bldgs. 00034, 00H016

Property Number: 21200520117

Federal Support Center

Olney Co: Montgomery MD 20882

Status: Unutilized

Reason: Occupied

Bldgs. 00H10, 00H12

Property Number: 21200520118

Federal Support Center

Olney Co: Montgomery MD 20882

Status: Unutilized

Reason: Occupied

Michigan

Building

Bldg. 00001

Property Number: 21200510066

Sheridan Hall USARC

501 Euclid Avenue

Helena Co: Lewis MI 59601-2865

Status: Unutilized

Reason: Federal interest

Missouri

Building

Bldg. 1230

Property Number: 21200340087

Fort Leonard Wood

Ft. Leonard Wood Co: Pulaski MO 65743-8944

Status: Unutilized

Reason: Occupied

Bldg. 1621

Property Number: 21200340088

Fort Leonard Wood

Ft. Leonard Wood Co: Pulaski MO 65743-8944

Status: Unutilized

Reason: Occupied

Bldg. 5760

Property Number: 21200410102

Fort Leonard Wood

Ft. Leonard Wood Co: Pulaski MO 65743-8944

Status: Unutilized

Reason: Occupied

Bldg. 5762

Property Number: 21200410103

Fort Leonard Wood

Ft. Leonard Wood Co: Pulaski MO 65743-8944

Status: Unutilized

Reason: Occupied

Bldg. 5763

Property Number: 21200410104

Fort Leonard Wood

Ft. Leonard Wood Co: Pulaski MO 65743-8944

Status: Unutilized

Reason: Occupied

Bldg. 5765

Property Number: 21200410105

Fort Leonard Wood

Ft. Leonard Wood Co: Pulaski MO 65743-8944

Status: Unutilized

Reason: Occupied

Bldg. 5760

Property Number: 21200420059

Fort Leonard Wood

Ft. Leonard Wood Co: Pulaski MO 65743-8944

Status: Unutilized

Reason: In use

Bldg. 5762

Property Number: 21200420060

Fort Leonard Wood

Ft. Leonard Wood Co: Pulaski MO 65743-8944

Status: Unutilized

Reason: In use

Bldg. 5763

Property Number: 21200420061

Fort Leonard Wood

Ft. Leonard Wood Co: Pulaski MO 65743-8944

Status: Unutilized

Reason: In use

Bldg. 5765

Property Number: 21200420062

Fort Leonard Wood

Ft. Leonard Wood Co: Pulaski MO 65743-8944

Status: Unutilized

Reason: In use

Bldg. 00467

Property Number: 21200530085

Fort Leonard Wood

Ft. Leonard Wood Co: Pulaski MO 65743

Status: Unutilized

Reason: Occupied

New York

Building

Bldgs. 1511-1518

Property Number: 21200320160

U.S. Military Academy

Training Area

Highlands Co: Orange NY 10996

Status: Unutilized

Reason: Occupied

Bldgs. 1523-1526

Property Number: 21200320161

U.S. Military Academy

Training Area

Highlands Co: Orange NY 10996

Status: Unutilized

Reason: Occupied

Bldgs. 1704-1705, 1721-1722

Property Number: 21200320162

U.S. Military Academy

Training Area

Highlands Co: Orange NY 10996

Status: Unutilized

Reason: Occupied

Bldg. 1723

Property Number: 21200320163

U.S. Military Academy

Training Area

Highlands Co: Orange NY 10996

Status: Unutilized

Reason: Occupied

Bldgs. 1706-1709

Property Number: 21200320164

U.S. Military Academy

Training Area

Highlands Co: Orange NY 10996

Status: Unutilized

Reason: Occupied

Bldgs. 1731-1735

Property Number: 21200320165

U.S. Military Academy

Training Area

Highlands Co: Orange NY 10996

Status: Unutilized

Reason: Occupied

North Carolina

Building

Bldg. N4116

Property Number: 21200240087

Fort Bragg

Ft. Bragg Co: Cumberland NC 28310

Status: Excess

Reason: Mission use

Texas

Building

Bldgs. 4219, 4227

Property Number: 21200220139

Fort Hood

Ft. Hood Co: Bell TX 76544

Status: Unutilized

Reason: Admin. use

Bldgs. 4229, 4230, 4231

Property Number: 21200220140

Fort Hood

Ft. Hood Co: Bell TX 76544

Status: Unutilized

Reason: Admin. use

Bldgs. 4244, 4246

Property Number: 21200220141

Fort Hood

Ft. Hood Co: Bell TX 76544

Status: Unutilized

Reason: Admin. use

Bldgs. 4260, 4261, 4262

Property Number: 21200220142

Fort Hood

Ft. Hood Co: Bell TX 76544

Status: Unutilized

Reason: Admin. use

Bldg. 04335

Property Number: 21200440090

Fort Hood

Bell TX 76544

Status: Excess

Reason: Occupied

Bldg. 04465

Property Number: 21200440094

Fort Hood

Bell TX 76544

Status: Excess

Reason: Occupied

Bldg. 04468

Property Number: 21200440096

Fort Hood

Bell TX 76544

Status: Excess

Reason: Occupied

Bldgs. 04475-04476

Property Number: 21200440098

Fort Hood

Bell TX 76544

Status: Excess

Reason: Occupied

Bldg. 04477

Property Number: 21200440099

Fort Hood

Bell TX 76544

Status: Excess

Reason: Occupied

Bldg. 07002

Property Number: 21200440100

Fort Hood

Bell TX 76544

Status: Excess

Reason: Occupied

Bldg. 57001

Property Number: 21200440105

Fort Hood

Bell TX 76544

Status: Excess

Reason: Occupied

Bldgs. 125, 126

Property Number: 21200620075

Fort Hood

Bell TX 76544

Status: Excess

Reason: Occupied

Bldg. 190

Property Number: 21200620076

Fort Hood

Bell TX 76544

Status: Excess

Reason: Occupied

Bldg. 02240

Property Number: 21200620078

Fort Hood

Bell TX 76544

Status: Excess

Reason: Occupied

Bldg. 04164

Property Number: 21200620079

Fort Hood

Bell TX 76544

Status: Excess

Reason: Occupied

Bldgs. 04218, 04228

Property Number: 21200620080

Fort Hood

Bell TX 76544

Status: Excess

Reason: Occupied

Bldg. 04272

Property Number: 21200620081

Fort Hood

Bell TX 76544

Status: Excess

Reason: Not occupied

Bldg. 04415

Property Number: 21200620083

Fort Hood

Bell TX 76544

Status: Excess

Reason: Occupied

4 Bldgs

Property Number: 21200620084

Fort Hood 04419, 04420, 04421, 04424

Bell TX 76544

Status: Excess

Reason: Occupied

4 Bldgs.

Property Number: 21200620085

Fort Hood 04425, 04426, 04427, 04429

Bell TX 76544

Status: Excess

Reason: Occupied

Bldg. 04430

Property Number: 21200620087

Fort Hood

Bell TX 76544

Status: Excess

Reason: Occupied

Bldg. 04434

Property Number: 21200620088

Fort Hood

Bell TX 76544

Status: Excess

Reason: Occupied

Bldg. 04439

Property Number: 21200620089

Fort Hood

Bell TX 76544

Status: Excess

Reason: Occupied

Bldgs. 04470, 04471

Property Number: 21200620090

Fort Hood

Bell TX 76544

Status: Excess

Reason: Occupied

Bldg. 04493

Property Number: 21200620091

Fort Hood

Bell TX 76544

Status: Excess

Reason: Occupied

Bldg. 04494

Property Number: 21200620092

Fort Hood

Bell TX 76544

Status: Excess

Reason: Occupied

Bldg. 04632

Property Number: 21200620093

Fort Hood

Bell TX 76544

Status: Excess

Reason: Occupied

Bldg. 04640

Property Number: 21200620094

Fort Hood

Bell TX 76544

Status: Excess

Reason: Occupied

Bldg. 04645

Property Number: 21200620095

Fort Hood

Bell TX 76544

Status: Excess

Reason: Occupied

Bldg. 04906

Property Number: 21200620096

Fort Hood

Bell TX 76544

Status: Excess

Reason: Occupied

Bldg. 20121

Property Number: 21200620097

Fort Hood

Bell TX 76544

Status: Excess

Reason: Occupied

Bldg. 91052

Property Number: 21200620101

Fort Hood

Bell TX 76544

Status: Excess

Reason: Occupied

Bldg. 1345

Property Number: 21200740070

Fort Hood

Bell TX 76544

Status: Excess

Reason: Utilized

Bldgs. 1348, 1941

Property Number: 21200740071

Fort Hood

Bell TX 76544

Status: Excess

Reason: Utilized

Bldg. 1919

Property Number: 21200740072

Fort Hood

Bell TX 76544

Status: Excess

Reason: Utilized

Bldg. 1943

Property Number: 21200740073

Fort Hood

Bell TX 76544

Status: Excess

Reason: Utilized

Bldg. 1946

Property Number: 21200740074

Fort Hood

Bell TX 76544

Status: Excess

Reason: Utilized

Bldg. 4205

Property Number: 21200740075

Fort Hood

Bell TX 76544

Status: Excess

Reason: Utilized

Bldg. 4207

Property Number: 21200740076

Fort Hood

Bell TX 76544

Status: Excess

Reason: Utilized

Bldg. 4208

Property Number: 21200740077

Fort Hood

Bell TX 76544

Status: Excess

Reason: Utilized

Bldgs. 4210, 4211, 4216

Property Number: 21200740078

Fort Hood

Bell TX 76544

Status: Excess

Reason: Utilized

Bldg. 4219A

Property Number: 21200740079

Fort Hood

Bell TX 76544

Status: Excess

Reason: Utilized

Bldg. 04252

Property Number: 21200740081

Fort Hood

Bell TX 76544

Status: Excess

Reason: Utilized

Bldg. 4255

Property Number: 21200740082

Fort Hood

Bell TX 76544

Status: Excess

Reason: Utilized

Bldg. 04480

Property Number: 21200740083

Fort Hood

Bell TX 76544

Status: Excess

Reason: Utilized

Bldg. 04485

Property Number: 21200740084

Fort Hood

Bell TX 76544

Status: Excess

Reason: Utilized

Bldgs. 04487, 04488

Property Number: 21200740085

Fort Hood

Bell TX 76544

Status: Excess

Reason: Utilized

Bldg. 04489

Property Number: 21200740086

Fort Hood

Ft. Hood TX 76544

Status: Excess

Reason: Utilized

Bldgs. 4491, 4492

Property Number: 21200740087

Fort Hood

Bell TX 76544

Status: Excess

Reason: Utilized

Bldgs. 04902, 04905

Property Number: 21200740088

Fort Hood

Bell TX 76544

Status: Excess

Reason: Utilized

Bldgs. 04914, 04915, 04916

Property Number: 21200740089

Fort Hood

Bell TX 76544

Status: Excess

Reason: Utilized

Bldg. 20102

Property Number: 21200740091

Fort Hood

Bell TX 76544

Status: Excess

Reason: Utilized

Bldg. 20118

Property Number: 21200740092

Fort Hood

Bell TX 76544

Status: Excess

Reason: Utilized

Bldg. 29027

Property Number: 21200740093

Fort Hood

Bell TX 76544

Status: Excess

Reason: Utilized

Bldg. 56017

Property Number: 21200740094

Fort Hood

Bell TX 76544

Status: Excess

Reason: Utilized

Bldg. 56202

Property Number: 21200740095

Fort Hood

Bell TX 76544

Status: Excess

Reason: Utilized

Bldg. 56224

Property Number: 21200740096

Fort Hood

Bell TX 76544

Status: Excess

Reason: Utilized

Bldg. 56305

Property Number: 21200740097

Fort Hood

Bell TX 76544

Status: Excess

Reason: Utilized

Bldg. 56311

Property Number: 21200740098

Fort Hood

Bell TX 76544

Status: Excess

Reason: Utilized

Bldg. 56327

Property Number: 21200740099

Fort Hood

Bell TX 76544

Status: Excess

Reason: Utilized

Bldg. 56329

Property Number: 21200740100

Fort Hood

Bell TX 76544

Status: Excess

Reason: Utilized

9 Bldgs.

Property Number: 21200740101

Fort Hood

Bell TX 76544

Status: Excess

Reason: Utilized

Bldg. 92043

Property Number: 21200740102

Fort Hood

Bell TX 76544

Status: Excess

Reason: Utilized

Bldg. 92072

Property Number: 21200740103

Fort Hood

Bell TX 76544

Status: Excess

Reason: Utilized

Bldg. 92083

Property Number: 21200740104

Fort Hood

Bell TX 76544

Status: Excess

Reason: Utilized

Bldgs. 04213, 04227

Property Number: 21200740189

Fort Hood

Bell TX 76544

Status: Excess

Reason: Utilized

Bldg. 4404

Property Number: 21200740190

Fort Hood

Bell TX 76544

Status: Excess

Reason: Utilized

Bldg. 56607

Property Number: 21200740191

Fort Hood

Bell TX 76544

Status: Excess

Reason: Utilized

Bldg. 91041

Property Number: 21200740192

Fort Hood

Bell TX 76544

Status: Excess

Reason: Utilized

5 Bldgs.

Property Number: 21200740193

Fort Hood

93010, 93011, 93012, 93014

Bell TX 76544

Status: Excess

Reason: Utilized

Bldg. 94031

Property Number: 21200740194

Fort Hood

Bell TX 76544

Status: Excess

Reason: Utilized

Virginia

Building

Bldg. T2827

Property Number: 21200320172

Fort Pickett

Blackstone Co: Nottoway VA 23824

Status: Unutilized

Reason: Occupied

Bldg. T2841

Property Number: 21200320173

Fort Pickett

Blackstone Co: Nottoway VA 23824

Status: Unutilized

Reason: Occupied

Bldg. 01014

Property Number: 21200720067

Fort Story

Ft. Story VA 23459

Status: Unutilized

Reason: Occupied

Bldg. 01022

Property Number: 21200720068

Fort Story

Ft. Story VA 23459

Status: Unutilized

Reason: Occupied

4 Bldgs.

Property Number: 21200720069

Fort Story

01023, 01029, 01036, 01038

Ft. Story VA 23459

Status: Unutilized

Reason: Occupied

Bldg. 01063

Property Number: 21200720072

Fort Story

Ft. Story VA 23459

Status: Unutilized

Reason: Occupied

Bldg. 00215

Property Number: 21200720073

Fort Eustis

Ft. Eustis VA 23604

Status: Unutilized

Reason: Occupied

4 Bldgs.

Property Number: 21200720074

Fort Eustis

01514, 01523, 01528, 01529

Ft. Eustis VA 23604

Status: Unutilized

Reason: Occupied

4 Bldgs.

Property Number: 21200720075

Fort Eustis

01534, 01542, 01549, 01557

Ft. Eustis VA 23604

Status: Unutilized

Reason: Occupied

Bldgs. 01707, 01719

Property Number: 21200720077

Fort Eustis

Ft. Eustis VA 23604

Status: Unutilized

Reason: Occupied

Bldg. 01720

Property Number: 21200720078

Fort Eustis

Ft. Eustis VA 23604

Status: Unutilized

Reason: Occupied

Bldgs. 01721, 01725

Property Number: 21200720079

Fort Eustis

Ft. Eustis VA 23604

Status: Unutilized

Reason: Occupied

Bldgs. 01726, 01735, 01736

Property Number: 21200720080

Fort Eustis

Ft. Eustis VA 23604

Status: Unutilized

Reason: Occupied

Bldgs. 01734, 01745, 01747

Property Number: 21200720081

Fort Eustis

Ft. Eustis VA 23604

Status: Unutilized

Reason: Occupied

Bldg. 01741

Property Number: 21200720082

Fort Eustis

Ft. Eustis VA 23604

Status: Unutilized

Reason: Occupied

Bldg. 02720

Property Number: 21200720083

Fort Eustis

Ft. Eustis VA 23604

Status: Unutilized

Reason: Occupied

Washington

Building

Bldg. 05904

Property Number: 21200240092

Fort Lewis

Ft. Lewis Co: Pierce WA 98433-9500

Status: Excess

Reason: Mission use

COE

Illinois

Building

Bldg. 7

Property Number: 31199010001

Ohio River Locks No. 53

Grand Chain Co: Pulaski IL 62941-9801

Status: Unutilized

Reason: Project integrity and security; safety liability

Bldg. 6

Property Number: 31199010002

Ohio River Locks No. 53

Grand Chain Co: Pulaski IL 62941-9801

Status: Unutilized

Reason: Project integrity and security; safety liability

Bldg. 5

Property Number: 31199010003

Ohio River Locks No. 53

Grand Chain Co: Pulaski IL 62941-9801

Status: Unutilized

Reason: Project integrity and security; safety liability

Bldg. 4

Property Number: 31199010004

Ohio River Locks No. 53

Grand Chain Co: Pulaski IL 62941-9801

Status: Unutilized

Reason: Project integrity and security; safety liability

Bldg. 3

Property Number: 31199010005

Ohio River Locks No. 53

Grand Chain Co: Pulaski IL 62941-9801

Status: Unutilized

Reason: Project integrity and security; safety liability

Bldg. 2

Property Number: 31199010006

Ohio River Locks No. 53

Grand Chain Co: Pulaski IL 62941-9801

Status: Unutilized

Reason: Project integrity and security; safety liability

Bldg. 1

Property Number: 31199010007

Ohio River Locks No. 53

Grand Chain Co: Pulaski IL 62941-9801

Status: Unutilized

Reason: Project integrity and security; safety liability

Land

Lake Shelbyville

Property Number: 31199240004

Shelbyville Co: Shelby IL 62565-9804

Status: Unutilized

Reason: Disposal action initiated

Ohio

Building

Bldg.—Berlin Lake

Property Number: 31199640001

7400 Bedell Road

Berlin Center Co: Mahoning OH 44401-9797

Status: Unutilized

Reason: Utilized as construction office

Pennsylvania

Building

Tract 403A

Property Number: 31199430021

Grays Landing Lock Project

Greensboro Co: Greene PA 15338

Status: Unutilized

Reason: To be transferred to Borough

Tract 403B

Property Number: 31199430022

Grays Landing Lock Project

Greensboro Co: Greene PA 15338

Status: Unutilized

Reason: To be transferred to Borough

Tract 403C

Property Number: 31199430023

Grays Landing Lock Project

Greensboro Co: Greene PA 15338

Status: Unutilized

Reason: To be transferred to Borough

Land

East Branch Clarion River Lake

Property Number: 31199011012

Wilcox Co: Elk PA

Status: Underutilized

Reason: Location near damsite

Dashields Locks and Dam

Property Number: 31199210009

(Glenwillard, PA)

Crescent Twp. Co: Allegheny PA 15046-0475

Status: Unutilized

Reason: Leased to Township

GSA

Arizona

Building

Water Conservation Lab

Property Number: 54200820013

4331 E. Broadway Rd.

Phoenix AZ 85040

Status: Excess

GSA Number: 9-A-AZ-846-1

Reason: Advertised for sale

Land

Parking Lot

Property Number: 54200740007

322 2nd Ave.

Phoenix AZ 85003

Status: Surplus

GSA Number: AZ-6293-1

Reason: Expression of interest

SRP Ditch

Property Number: 54200840001

24th St. & Jones Ave.

Phoenix AZ 85040

Status: Surplus

GSA Number: AZ-0849-AA

Reason: Expression of interest

California

Building

Social Security Building

Property Number: 54200610010

505 North Court Street

Visalia Co: Tulare CA 93291

Status: Surplus

GSA Number: 9-G-CA-1643

Reason: Conveyance pending

Old Customs House

Property Number: 54200710016

12 Heffernan Ave.

Calexico CA 92231

Status: Surplus

GSA Number: 9-G-CA-1658

Reason: Expression of interest

Defense Fuel Support Pt.

Property Number: 54200810001

Estero Bay Facility

Morro Bay CA 93442

Status: Surplus

GSA Number: 9-N-CA-1606

Reason: Sale in progress

Colorado

Land

Outer Marker—2.8 acres

Property Number: 54200830022

Denver OUF

Denver CO

Status: Surplus

GSA Number: 7-U-CO-0674

Reason: Advertised for sale

Outer Marker—0.084 acres

Property Number: 54200830023

Denver JOY

Denver CO

Status: Surplus

GSA Number: 7-U-CO-0675

Reason: Advertised for sale

Outer Marker—0.39 acres

Property Number: 54200830024

Denver FUI

Denver CO

Status: Surplus

GSA Number: 7-U-CO-0673

Reason: Advertised for sale

Outer Marker—0.39 acres

Property Number: 54200830025

Denver DPP

Denver CO

Status: Surplus

GSA Number: 7-U-CO-0676

Reason: Advertised for sale

Indiana

Building

Fed. Bldg./Courthouse

Property Number: 54200710003

507 State Street

Hammond IN 46320

Status: Excess

GSA Number: 1-G-IN-590

Reason: Sale in progress

Radio Tower

Property Number: 54200830020

Cannelton Locks & Dam

Perry IN

Status: Excess

GSA Number: 1-D-IN-569E

Reason: Expression of interest

John A. Bushemi USARC

Property Number: 54200830027

3510 W 15th Ave

Gary IN 46404

Status: Excess

GSA Number: 1-D-IN-0602

Reason: Expression of interest

Maryland

Land

3.54 acres

Property Number: 54200810005

Andrews AFB

Upper Marlboro MD

Status: Surplus

GSA Number: MD(R-11)0598-1

Reason: Expression of interest

Massachusetts

Building

Federal Office Bldg

Property Number: 54200740002

Main & Bridge St.

Springfield MA 01101

Status: Excess

GSA Number: MA-6262-1

Reason: Conveyance pending

Land

FAA Site

Property Number: 54200830026

Massasoit Bridge Rd.

Nantucket MA 02554

Status: Surplus

GSA Number: MA-0895

Reason: Expression of interest

Michigan

Building

Social Security Bldg.

Property Number: 54200720020

929 Stevens Road

Flint MI 48503

Status: Excess

GSA Number: 1-G-MI-822

Reason: Expression of interest

Minnesota

Building

Memorial Army Rsv Ctr

Property Number: 54200620002

1804 3rd Avenue

International Falls Co: Koochiching MN 56649

Status: Excess

GSA Number: 1-D-MN-586

Reason: Written expression of interest

Mississippi

Building

Federal Building

Property Number: 54200740006

200 East Washington St.

Greenwood MS 38930

Status: Underutilized

GSA Number: 4-G-MS-0562

Reason: Sale in progress

Montana

Building

Bldg. 1045

Property Number: 54200830007

Kootenai

Hwy 508

Lincoln MT 59935

Status: Surplus

GSA Number: 7-A-MT-0627

Reason: Advertised for sale

Bldg. 1063

Property Number: 54200830008

Kootenai

Hwy 508

Lincoln MT 59935

Status: Surplus

GSA Number: 7-A-MT-0627

Reason: Advertised for sale

Bldg. 1324

Property Number: 54200830009

Kootenai

Hwy 508

Lincoln MT 59935

Status: Surplus

GSA Number: 7-A-MT-0627

Reason: Advertised for sale

Bldg. 1325

Property Number: 54200830010

Kootenai

Hwy 508

Lincoln MT 59935

Status: Surplus

GSA Number: 7-A-MT-0627

Reason: Advertised for sale

Bldg. 2326

Property Number: 54200830011

Kootenai

Hwy 508

Lincoln MT 59935

Status: Surplus

GSA Number: 7-A-MT-0627

Reason: Advertised for sale

Bldg. 2641

Property Number: 54200830012

Kootenai

Hwy 508

Lincoln MT 59935

Status: Surplus

GSA Number: 7-A-MT-0627

Reason: Advertised for sale

Bldg. 2000

Property Number: 54200830013

Beaverhead MT 59762

Status: Surplus

GSA Number: 7-A-MT-0627

Reason: Advertised for sale

Bldg. 3501

Property Number: 54200830014

Jefferson MT

Status: Surplus

GSA Number: 7-A-MT-0627

Reason: Advertised for sale

Bldg. 2002

Property Number: 54200830015

Flathead

Big Fork MT 59911

Status: Surplus

GSA Number: 7-A-MT-0627

Reason: Advertised for sale

Bldg. 1000

Property Number: 54200830017

Lewis & Clark

Judith Basin MT 59479

Status: Surplus

GSA Number: 7-A-MT-0627

Reason: Advertised for sale

Bldg. 2429

Property Number: 54200830018

Lewis & Clark

Judith Basin MT 59479

Status: Surplus

GSA Number: 7-A-MT-0627

Reason: Advertised for sale

Nebraska

Building

Environmental Chemistry

Branch Laboratory

Property Number: 54200810010

420 South 18th St.

Omaha NE 68102

Status: Excess

GSA Number: 7-D-NE-532

Reason: Expression of interest

New Jersey

Building

Camp Petricktown Sup. Facility

Property Number: 54200740005

US Route 130

Pedricktown NJ 08067

Status: Excess

GSA Number: 1-D-NJ-0662

Reason: Expression of interest

New York

Building

Fleet Mgmt. Center

Property Number: 54200620015

5—32nd Street

Brooklyn NY 11232

Status: Surplus

GSA Number: 1-G-NY-0872B

Reason: Conveyance pending

Federal Building

Property Number: 54200820005

Brinkerhoff/Margaret Streets

Plattsburgh NY 12901

Status: Surplus

GSA Number: 1-G-NY-0898-1A

Reason: Expression of interest

Caywood Pt. Mess Hall

Property Number: 54200830001

Maint. Bldg.

State Rt 114

Lodi NY

Status: Surplus

GSA Number: 1-A-NY-0946-1A

Reason: Sale in progress

North Carolina

Building

USCG Station Bldgs.

Property Number: 54200720002

Cape Hatteras

Buxton Co: Dare NC

Status: Excess

GSA Number: 4-U-ND-0747A

Reason: Federal interest

Federal Building

Property Number: 54200840007

241 Sunset Ave.

Asheboro Co: Randolph NC 27203

Status: Excess

GSA Number: 4-G-NC-0746-2AB

Reason: Expression of interest

North Dakota

Building

Residence #1

Property Number: 54200620005

Hwy 30/Canadian Border

St. John Co: Rolette ND 58369

Status: Excess

GSA Number: 7-G-ND-0504

Reason: Advertised for sale

Residence #2

Property Number: 54200620006

Hwy 30/Canadian Border

St. John Co: Rolette ND 58369

Status: Excess

GSA Number: 7-G-ND-0505

Reason: Advertised for sale

Sherwood Garage

Property Number: 54200630002

Hwy 28

Sherwood Co: Renville ND 58782

Status: Surplus

GSA Number: 7-G-ND-0512

Reason: Advertised for sale

Noonan Garage

Property Number: 54200630003

Hwy 40

Noonan Co: Divide ND 58765

Status: Surplus

GSA Number: 7-G-ND-0511

Reason: Advertised for sale

Westhope Garage

Property Number: 54200630004

Hwy 83

Westhope Co: Bottineau ND 58793

Status: Surplus

GSA Number: 7-G-ND-0513

Reason: Advertised for sale

North House

Property Number: 54200720008

10951 County Road

Hannah Co: Cavalier ND 58239

Status: Surplus

GSA Number: 7-X-ND-0515-1A

Reason: Advertised for sale

South House

Property Number: 54200720009

10949 County Road

Hannah Co: Cavalier ND 58239

Status: Surplus

GSA Number: 7-X-ND-0515-1B

Reason: Advertised for sale

North House

Property Number: 54200720010

Highway 40

Noonan Co: Divide ND 58765

Status: Surplus

GSA Number: 7-X-ND-0517-1A

Reason: Advertised for sale

South House

Property Number: 54200720011

Highway 40

Noonan Co: Divide ND 58765

Status: Surplus

GSA Number: 7-X-ND-0517-1B

Reason: Advertised for sale

North House

Property Number: 54200720012

Rt. 1, Box 66

Sarles Co: Cavalier ND 58372

Status: Surplus

GSA Number: 7-X-ND-0516-1B

Reason: Advertised for sale

South House

Property Number: 54200720013

Rt. 1, Box 67

Sarles Co: Cavalier ND 58372

Status: Surplus

GSA Number: 7-X-ND-0516-1A

Reason: Advertised for sale

House #1

Property Number: 54200720014

10925 Hwy 28

Sherwood Co: Renville ND 58782

Status: Surplus

GSA Number: 7-X-ND-0518-1B

Reason: Advertised for sale

House #2

Property Number: 54200720015

10927 Hwy 28

Sherwood Co: Renville ND 58782

Status: Surplus

GSA Number: 7-X-ND-0518-1A

Reason: Advertised for sale

North House

Property Number: 54200720016

10913 Hwy 83

Westhope Co: Bottineau ND 58793

Status: Surplus

GSA Number: 7-X-ND-0519-1B

Reason: Advertised for sale

South House

Property Number: 54200720017

10909 Hwy 83

Westhope Co: Bottineau ND 58793

Status: Surplus

GSA Number: 7-X-ND-0519-1A

Reason: Advertised for sale

Ohio

Building

NIKE Site Cd-46

Property Number: 31200740015

Felicity OH

Status: Excess

GSA Number: 1-D-OH-0832

Reason: Expression of interest

PFC Joe R. Hastings

Property Number: 54200840008

Army Reserve Center

3120 Parkway Dr.

Canton OH 44708

Status: Excess

GSA Number: 1-D-OH-835

Reason: Expression of interest

Oklahoma

Land

Tracts 107, 202

Property Number: 54200710004

Candy Lake Project

Osage OK

Status: Surplus

GSA Number: 7-D-OK-0529-1-F, U

Reason: Expression of interest

Oregon

Building

3 Bldgs/Land

Property Number: 54200840003

OTHR-B Radar

Cty Rd 514

Christmas Valley OR 97641

Status: Excess

GSA Number: 9-D-OR-0768

Reason: Expression of interest

U.S. Customs House

Property Number: 54200840004

220 NW 8th Ave.

Portland OR

Status: Excess

GSA Number: 9-D-OR-0733

Reason: Expression of interest

Land

20 acres

Property Number: 54200820007

Cow Hollow Park

Nyssa OR 97913

Status: Excess

GSA Number: 9-I-OR-769

Reason: Expression of interest

Pennsylvania

Land

Approx. 16.88

Property Number: 54200820011

271 Sterrettania Rd.

Erie PA 16506

Status: Surplus

GSA Number: 4-D-PA-0810

Reason: Advertised for sale

Samoa

Building

6 Housing Units

Property Number: 54200710001

Lima & FA Streets

Tafuna AQ 96799

Status: Surplus

GSA Number: 9-U-AS-002

Reason: Conveyance pending

Unit #25

Property Number: 54200740001

Lima & FA Streets

Tafuna AQ

Status: Surplus

GSA Number: 9-U-AS-002AB

Reason: Conveyance pending

Texas

Building

Bldgs. 5, 6, 7

Property Number: 54200640002

Federal Center

501 West Felix Street

Ft. Worth Co: Tarrant TX 76115

Status: Excess

GSA Number: 7-G-TX-0767-3

Reason: Advertised for sale

Federal Center (Bldg 11A)

Property Number: 54200840005

501 West Felix St.

Fort Worth TX 76115

Status: Excess

GSA Number: 7-G-TX-0767AF

Reason: Advertised for sale

Microwave Antenna Tower Site

Property Number: 54200840009

353 PR 207

Ivanhoe TX 75447

Status: Surplus

GSA Number: 7-D-TX-1104

Reason: Expression of interest

Land

FAA Outer Marker 18 R/L VYN

Property Number: 54200820017

1420 Lakeside Pkwy

Flower Mound TX 75028

Status: Surplus

GSA Number: 7-U-TX-1090

Reason: Expression of interest

FAA Outer Marker 31R RAA

Property Number: 54200820018

1600 Cooper Drive

Irving TX 75061

Status: Surplus

GSA Number: 7-U-TX-1095

Reason: Expression of interest

FAA Outer Marker 35R AJQ

Property Number: 54200820019

300 W. Shady Grove

Grand Prairie TX 75050

Status: Surplus

GSA Number: 7-U-TX-1094

Reason: Expression of interest

FAA Outer Marker 13

Property Number: 54200830002

Southlake TX 76092

Status: Surplus

GSA Number: 7-U-TX-1096

Reason: Expression of interest

FAA Outer Marker 36L

Property Number: 54200830003

Grand Prairie TX 75050

Status: Surplus

GSA Number: 7-U-TX-1101

Reason: Expression of interest

Utah

Building

ILS Middle Marker Annex

Property Number: 54200820004

NE of Hill AFB

Tooele UT 84056

Status: Excess

GSA Number: 7-D-UT-0421-AD

Reason: Advertised for sale

Washington

Building

Blaine Parking Lot

Property Number: 54200830028

SR 543

Blaine WA 98230

Status: Excess

GSA Number: 9-G-WA-1242

Reason: Expression of interest

West Virginia

Building

SSA District Office

Property Number: 54200820009

214 North Kanawha St.

Beckley WV 25801

Status: Surplus

GSA Number: 4-G-WV-0552

Reason: Written expression of interest

Wyoming

Land

Cody Wyoming Property

Property Number: 54200840006

Hwy 20

Park WY

Status: Surplus

GSA Number: 7-I-WY-0547

Reason: Advertised for sale

Navy

Hawaii

Building

Bldg. 2652

Property Number: 77200710039

Navy Aloha Center

Pearl Harbor HI 96860

Status: Underutilized

Reason: In use

Land

6 Parcels

Property Number: 77200840012

Naval Station

Pearl Harbor HI 96818

Status: Unutilized

Reason: In use

North Carolina

Land

6.5 acre parcel

Property Number: 77200840014

Marine Corps Base

Stone Bay Rifle Range

Camp Lejeune NC

Status: Underutilized

Reason: In use

VA

Iowa

Land

38 acres

Property Number: 97199740001

VA Medical Center 1515 West Pleasant St.

Knoxville Co: Marion IA 50138

Status: Unutilized

Reason: Enhanced-Use Legislation potential

Michigan

Land

VA Medical Center

Property Number: 97199010015

5500 Armstrong Road

Battle Creek Co: Calhoun MI 49016

Status: Underutilized

Reason: Being used for patient and program activities.

Montana

Building

VA MT Healthcare

Property Number: 97200030001

210 S. Winchester

Miles City Co: Custer MT 59301

Status: Underutilized

Reason: Transfer to Custer County

Ohio

Building

Bldg. 116

Property Number: 97199920002

VA Medical Center

Dayton Co: Montgomery OH 45428

Status: Unutilized

Reason: preexisting agreement

Pennsylvania

Land

VA Medical Center

Property Number: 97199010016

New Castle Road

Butler Co: Butler PA 16001

Status: Underutilized

Reason: Used as natural drainage for facility property.

Land No. 645

Property Number: 97199010080

VA. Medical Center

Highland Drive

Pittsburgh Co: Allegheny PA 15206

Status: Unutilized

Reason: Property is essential to security and safety of patients.

Land—34.16 acres

Property Number: 97199340001

VA Medical Center

1400 Black Horse Hill Road

Coatesville Co: Chester PA 19320

Status: Underutilized

Reason: Needed for mission related functions

Wisconsin

Building

Bldg. 2

Property Number: 97199830002

VA Medical Center

5000 West National Ave.

Milwaukee WI 53295

Status: Underutilized

Reason: Subject of leasing negotiations

Total Suitable and Unavailable for YEAR 2008 = 530

[FR Doc. E9-3109 Filed 2-19-09; 8:45 am]

BILLING CODE 4210-67-P